DEPARTMENT OF HOMELAND SECURITY

Coast Guard

46 CFR Parts 121, 160, 169, 184 and 199

[Docket No. USCG-2020-0107]

RIN 1625-AC51

Survival Craft Equipment—Update to Type Approval Requirements

AGENCY: Coast Guard, Department of Homeland Security (DHS).

ACTION: Notice of proposed rulemaking.

SUMMARY: The Coast Guard is proposing to update the type approval requirements for certain types of equipment that survival craft are required to carry on U.S.-flagged vessels. The proposed rule is deregulatory and would remove Coast Guard type approval requirements for nine of these types of survival craft equipment and replace them with the requirement that the manufacturer self-certify that the equipment complies with a consensus standard.

DATES: Comments and related material must be received by the Coast Guard on or before December 4, 2020. Comments sent to the Office of Management and Budget (OMB) on collection of information must reach OMB on or before December 4, 2020.

ADDRESSES: You may submit comments identified by docket number USCG-2020-0107 using the Federal eRulemaking Portal at https://www.regulations.gov. See the “Public Participation and Request for Comments” portion of the SUPPLEMENTARY INFORMATION section for further instructions on submitting comments.

Collection of information. Submit comments on the collection of information discussed in section VII.D. of this preamble both to the Coast Guard's online docket and to the Office of Information and Regulatory Affairs (OIRA) in the White House Office of Management and Budget using one of the following two methods:

• Email: dhsdeskofficer@omb.eop.gov.

• Mail: OIRA, 725 17th Street NW, Washington, DC 20503, attention Desk Officer for the Coast Guard.

Viewing material proposed for incorporation by reference. Make arrangements to view this material by calling the person identified in the FOR FURTHER INFORMATION CONTACT section of this document.

FOR FURTHER INFORMATION CONTACT: For information about this document, call or email LT Brock Hashimoto, Lifesaving & Fire Safety Division (CG-ENG-4), Coast Guard; telephone 202-372-1426, email Brock.J.Hashimoto@uscg.mil.

SUPPLEMENTARY INFORMATION:

Table of Contents for Preamble

I. Public Participation and Request for Comments

II. Abbreviations

III. Basis and Purpose

IV. Background

V. Discussion of Proposed Rule

VI. Incorporation by Reference

VII. Regulatory Analyses

A. Regulatory Planning and Review

B. Small Entities

C. Assistance for Small Entities

D. Collection of Information

E. Federalism

F. Unfunded Mandates

G. Taking of Private Property

H. Civil Justice Reform

I. Protection of Children

J. Indian Tribal Governments

K. Energy Effects

L. Technical Standards and Incorporation by Reference

M. Environment

I. Public Participation and Request for Comments

The Coast Guard views public participation as essential to effective rulemaking and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If you cannot submit your material by using https://www.regulations.gov, call or email the person in the FOR FURTHER INFORMATION CONTACT section of this proposed rule for alternate instructions. Documents mentioned in this proposed rule, and all public comments, will be available in our online docket at https://www.regulations.gov, and can be viewed by following that website's instructions. Additionally, if you visit the online docket and sign up for email alerts, you will be notified when comments are posted or if a final rule is published.

We accept anonymous comments. All comments received will be posted without change to https://www.regulations.gov and will include any personal information you have provided. For more about privacy and submissions in response to this document, see DHS's eRulemaking System of Records notice (85 FR 14226, March 11, 2020).

We do not plan to hold a public meeting, but we will consider doing so if public comments indicate that a meeting would be helpful. We would issue a separate Federal Register (FR) notification to announce the date, time, and location of such a meeting.

II. Abbreviations

ASTM American Society for Testing and Materials

BLS U.S. Bureau of Labor Statistics

CFR Code of Federal Regulations

COA Certificate of approval

DHS Department of Homeland Security

ECEC U.S. Bureau of Labor Statistics Employer Costs for Employee Compensation

FR Federal Register

CG MIX U.S. Coast Guard Maritime Information Exchange

IBA Inflatable buoyant apparatus

IBR Incorporation by reference

ICR Information collection request

IEC International Electrotechnical Commission

IMO International Maritime Organization

ISO International Organization for Standardization

LSA Code Life-Saving Appliances Code

MISLE Marine Information for Safety and Law Enforcement

NAICS North American Industry Classification System

NPRM Notice of proposed rulemaking

OES U.S. Bureau of Labor Statistics Occupational Employment Statistics

OMB Office of Management and Budget

RA Regulatory Analysis

SOLAS International Convention for the Safety of Life at Sea

§ Section

U.S.C. United States Code

UL Underwriters Laboratories Inc.

III. Basis and Purpose

The legal authority for this proposed rule is found in Title 46 of the United States Code (U.S.C.) sections 2103, 3103, 3306, 3703, 4102, 4302, 4502, 7101, 8101 and the Department of Homeland Security (DHS) Delegation No. 0170.1, para. II, (92)(b). This proposed rule would update the type approval requirements for 12 types of survival craft equipment that survival craft are required to carry on certain, specified U.S.-flagged vessels—bilge pumps, compasses, fire extinguishers, first-aid kits, fishing kits, hatchets, jackknives, knives, signaling mirrors, provisions (food rations), emergency drinking water, and sea anchors—as well as some of the survival craft equipment required for sailing school vessels. For nine of these types of equipment, the proposed rule would replace the Coast Guard type approval requirement with a requirement that the manufacturer self-certify that the equipment complies with a consensus standard: Bilge pumps, compasses, first-aid kits, fishing kits, hatchets, jackknives, mirrors, sea anchors, and water.

Updating type approval requirements for survival craft equipment reduces the financial burden and amount of time spent by equipment manufacturers, vessel owners and operators, and the Coast Guard on current Coast Guard type approval requirements for survival craft equipment.

IV. Background

Many of the current requirements for survival craft equipment were developed in the 1950s and 1960s and have not been significantly updated since they were published. After thorough review of these requirements, as well as Coast Guard enforcement procedures, current maritime industry practice, and the availability of new consensus standards, we believe that the additional scrutiny provided by Coast Guard type approval does not increase the safety of the following nine types of survival craft equipment: Bilge pumps, compasses, first-aid kits,¹ fishing kits, hatchets, knives (including jackknives), mirrors, sea anchors, and emergency drinking water.

¹ Different first-aid kits are required for different survival craft and this is explained further in this proposed rule.

For these types of equipment, the current Coast Guard type approval requirements are outdated and overly prescriptive. This places a burden on the equipment manufacturers, which in turn affects the design costs of complying with the outdated standard, the administrative overhead costs, and the time-to-market costs of manufacturing and selling equipment. It also places a financial burden on the vessel owners and operators who are required to carry this specific approved equipment on board their survival craft. This equipment is frequently more costly and more difficult to obtain than similar products that are not type approved. Finally, it places a burden on the Coast Guard to review and approve this equipment without commensurate increases in safety.

V. Discussion of Proposed Rule

The Coast Guard proposes to amend several approval and carriage requirements in title 46 of the Code of Federal Regulations (CFR). Specifically, we are proposing to remove current approval requirements for first-aid kits in part 121 under subchapter K, part 160 under subchapter Q, and part 184 under subchapter T, and to update those requirements to industry standards. In addition, we propose removing approval requirements for certain survival craft equipment and provisions in part 160 under subchapter Q and in part 169 under subchapter R, and updating those requirements to industry standards. Finally, we are proposing to update the carriage requirements for lifesaving systems on certain inspected vessels in part 199 under subchapter W, by replacing some Coast Guard-specific standards with voluntary consensus standards.

The proposed rule would add a new subpart 160.046 (Emergency Provisions) to part 160 of title 46 of the CFR to consolidate and update applicable standards, including making mandatory several voluntary consensus standards consistent with the National Technology Transfer and Advancement Act of 1995, Public Law 104-113 (codified as a note to 15 U.S.C. 272). This rule would make mandatory three voluntary consensus standards from the International Organization for Standardization (ISO): ISO 18813:2006 “Ships and marine technology—Survival equipment for survival craft and rescue boats” (referred to as ISO 18813); ISO 17339:2018 “Ships and marine technology—Sea anchors for survival craft and rescue boats” (referred to as ISO 17339); and ISO 25862:2009 “Ships and marine technology—Marine magnetic compasses, binnacles and azimuth reading devices” (referred to as ISO 25862).

While the International Maritime Organization (IMO) does specify some standards for survival craft equipment affected by this proposed rule, it does not stipulate that the affected survival craft equipment be approved by the Administration. In some cases (such as first-aid kits and drinking water), the LSA Code references ISO 18813 as an acceptable standard for the equipment to meet, whereas in others (such as fishing tackle), the LSA Code merely requires that the equipment be carried aboard the specified survival craft.

Table 1 provides a list of the 12 types of survival craft equipment that would be affected by this proposed rule, the proposed changes that would be made to the corresponding regulations, and the affected CFR subparts and sections. Table 2 presents the Coast Guard's baseline matrix, which summarizes the proposed changes by CFR subpart and section.

For a detailed explanation of the proposed amendments presented in table 1, see the discussion that follows table 2.

Bilge Pump

Lifeboats that are not automatically self-bailing are currently required to carry manual bilge pumps approved by the Coast Guard under 46 CFR part 160, subpart 160.044—Pumps, Bilge, Lifeboat, for Merchant Vessels. This proposed rule would be the first substantive update to the design requirements since 1951. In this proposed rule, the Coast Guard would only require that bilge pumps comply with ISO 18813 paragraph 4.3. The rule would remove requirements for the Coast Guard to issue a Certificate of Approval (COA) and replace it with the requirement for the manufacturer to self-certify that their equipment meets the requirements outlined in ISO 18813. This would reduce the administrative burden for the manufacturers currently required to have a Coast Guard-issued COA for each bilge pump every 5 years. Subpart 160.044 would be removed and reserved, and the new requirements would be listed in § 199.175(b)(2).

The requirements in ISO 18813 and in subpart 160.044 are similar in nature, with three key differences:

(1) The capacity requirements in ISO 18813 differ from those in subpart 160.044. The Coast Guard proposes to incorporate by reference the ISO 18813 capacity standards and remove the current requirements in § 199.175(b)(2). The Coast Guard believes that the pump capacity in the ISO standard is more appropriate, given the current design of modern lifeboats;

(2) Subpart 160.044 requires that the body of the bilge pump be made of bronze, while ISO 18813 allows the bilge pump to be made of any corrosion-resistant material; and

(3) The requirements outlined in ISO 18813 would allow manufacturers more flexibility in the design and construction of bilge pumps. Any Coast Guard-approved bilge pump on board before this proposed rule becomes effective may remain on board if it remains in good and serviceable condition.

Compass

Lifeboats and rescue boats are required to carry a compass approved by the Coast Guard under approval series 160.014. The Coast Guard currently approves compasses using the “Guidelines for Approval of Magnetic Compasses in Lifeboats/Liferafts,” issued in December 2005, which states that manufacturers must meet either the “USCG Specification for Compasses: Magnetic, Liquid Filled, Mariners, Compensating, for lifeboats for Merchant Vessels,” developed in 1944, or a combination of ISO 613:2000 “Ships and marine technology—Magnetic compasses, binnacles and azimuth reading devices—Class B” (referred to as ISO 613) and the International Electrotechnical Commission (IEC)'s standard 60945:2002-08—“Maritime navigation and radio communication equipment and systems—General requirements—Methods of testing and required test results” (referred to as IEC 60945).

This proposed rule would update the language in § 199.175(b)(6) to state that the compass in a survival craft must comply with ISO 25862 Annex H.

Additionally, this proposed rule would remove the requirement for the Coast Guard to issue a COA and would replace it with the requirement for the manufacturer to self-certify that their equipment meets the requirements outlined in ISO 25862. As a result, the Coast Guard would no longer maintain separate design requirements in this specification.

There would be no substantive change in requirements for the class B magnetic compass because ISO 25862 supersedes and incorporates the requirements in ISO 613. Similarly, the testing requirements for the compasses would remain the same because ISO 25862 references the same testing requirements in IEC 60945 that are currently required for Coast Guard approval. This proposed rule would ensure that the compasses in survival craft would meet the same standard as currently required; however, the move to self-certification would lead to a reduction in paperwork and a reduction in collected information.

Fire Extinguishers

The recent rule, “Harmonization of Standards for Fire Protection, Detection, and Extinguishing Equipment” (81 FR 48219, July 22, 2016), updated the design and approval standards for fire extinguishing equipment by changing the portable fire extinguisher ratings system from a weight-based rating system to the Underwriters Laboratories Inc. (UL) performance-based rating system. Under current survival craft regulations, survival craft are required to carry fire extinguishers based on the old weight-based rating system rather than the performance-based rating system established by the aforementioned Harmonization rule (81 FR 48219). This proposed rule would update the requirements in § 199.175(b)(9) to reflect the change in rating system. As the Coast Guard noted in the Harmonization rule (see 81 FR at 48230), the fire extinguishers approved under the old weight-based system and the new performance-based system cost the same, so there is no cost or cost savings associated with this change.

First-Aid Kit

The Coast Guard intends to change current first-aid kit requirements by: (1) Accepting ISO 18813 as the one uniform Coast Guard-approved standard for first-aid kits; (2) updating and consolidating references to this one standard across multiple different first-aid carriage requirements; and 3) grandfathering in all preexisting first-aid kits that comply with the current Coast Guard standards.² Currently, all inspected small passenger vessels, lifeboats, rescue boats, inflatable SOLAS liferafts, and inflatable buoyant apparatuses are required to carry first-aid kits approved by the Coast Guard. There are two different approval series for first-aid kits, with different requirements: series 160.041, Lifeboat First-Aid Kit, for lifeboats, rescue boats, and small passenger vessels; and series 160.054, First-Aid Kit for Inflatable Liferafts, for liferafts. The current requirements for first-aid kits are found in §§ 160.041-4(b) and 160.054-4(b). First-aid kits approved to § 160.041-4(b) are required to carry more packages of certain first-aid items than first-aid kits approved to § 160.054-4(b).³

² The grandfathering provision is proposed by this rulemaking for all nine pieces of equipment. Please see the proposed § 199.175(c).

³ For the item requirements for first-aid kits in lifeboats and rescue boats, see the following link: https://www.ecfr.gov/cgi-bin/text-idx?SID=6053d1fa121cb42db8a54803ad6f08ea&mc=true&node=se46.6.160_1041_64&rgn=div8. For the item requirements for liferafts and buoyant apparatuses, see the following link: https://www.ecfr.gov/cgi-bin/text-idx?SID=6053d1fa121cb42db8a54803ad6f08ea&mc=true&node=se46.6.160_1054_64&rgn=div8.

This proposed rule would remove and reserve subparts 160.041 and 160.054 and move the requirements for first-aid kits from subparts 160.041 and 160.054 to § 199.175(b)(10). The rule would require that all first-aid kits, except those grandfathered under the proposed § 199.175(c), meet the requirements set forth in ISO 18813. This standard requires a different set of items and a different number of items in the first-aid kit. For a thorough description of the differences in contents between the first-aid kits in subparts 160.041 and 160.054 and ISO 18813, see table 30 in the regulatory analysis (RA). Finally, this proposed rule would remove the requirement for the Coast Guard to issue a COA and would replace it with a requirement for the manufacturer to self-certify that their equipment meets the requirements of ISO 18813.

The Coast Guard also intends to update the references to the standards for first-aid kits carriage requirements in § 121.710 for subchapter K-inspected small passenger vessels, § 184.710 for subchapter T-inspected small passenger vessels, subpart 160.010 for buoyant apparatuses,⁴ and subpart 160.151 for liferafts. This proposed rule would update the referenced first-aid kit requirements to the consolidated requirements listed in § 199.175(b)(10).

⁴ Only required for “open reversible liferafts” Annex 11 to IMO Res. MSC.97(73).

In current regulations, the medicine in first-aid kits is required to conform to the latest standards of the U.S. Pharmacopoeia.⁵ These proposed regulations do not change this requirement and would be outlined in § 199.175(b)(10).⁶

⁵ Compendium of drug information for the United States published annually by the United States Pharmacopeial Convention.

⁶ This replaces the U.S. requirement for first-aid kits to contain “Aspirin” with the ISO requirement for “Analgesic.”

Fishing Kit

Lifeboats and SOLAS A pack liferafts are required to carry a fishing kit and tackle approved by the Coast Guard, as directed in 46 CFR part 160, subpart 160.061. This proposed rule would remove and reserve subpart 160.061 and move the requirements for fishing kits from subpart 160.061 to § 199.175(b)(11). The proposed rule would make two substantive changes to the requirements. First, the Coast Guard would mandate that fishing kits meet the standards set forth in ISO 18813. Second, this proposed rule would remove the requirement for the Coast Guard to issue a COA and replace it with the requirement for the manufacturer to self-certify that their equipment meets the specifications outlined in § 199.175(b)(11).

The requirements in subpart 160.061 were last substantively updated in September 1965 and are very prescriptive (for example, pork bait is no longer commercially available but is a listed requirement in fishing kits). By contrast, ISO 18813 is much less prescriptive, and the Coast Guard does not believe this loss in specificity decreases the usefulness of fishing kits likely to be produced and sold. Instead, this proposed rulemaking would align the Coast Guard requirements for fishing kits with international requirements and would make it easier for fishing kit manufacturers to meet Coast Guard requirements.

Hatchet

All lifeboats are required to carry hatchets approved by the Coast Guard to the specifications found in 46 CFR part 160, subpart 160.013. This proposed rule would remove and reserve subpart 160.013 and move the requirements for hatchets from subpart 160.013 to § 199.175(b)(13). This proposed rule would make two substantive changes to the current requirements. First, it would remove the requirement for the Coast Guard to issue a COA and would replace it with the requirement for the manufacturer to self-certify that their equipment meets the requirements outlined in § 199.175(b)(13). Second, it would remove some of the current testing requirements, because the Coast Guard does not believe they increase safety. Specifically, the requirements found in subpart 160.013 state that the hatchet must comply with the Federal Specification GGG-A-926—Axes, which was cancelled in 1999.⁷ The Coast Guard is proposing to retain pertinent requirements from current regulations and remove outdated ones. For example, we would retain the handle, lanyard, and sheath specifications for a hatchet, because these specifications reflect the safety requirements of a hatchet.

⁷ Department of Defense Index of Specifications and Standards Numerical Canceled Listing (APPENDIX) Part IV.

Jackknife

All lifeboats and SOLAS liferafts are required to carry a jackknife approved by the Coast Guard, as specified in 46 CFR part 160, subpart 160.043. This proposed rule would remove and reserve subpart 160.043 and move the requirements from subpart 160.043 to § 199.175(b)(16). The proposed rule would make four changes to the current requirements. First, this proposed rule would require that a jackknife must comply with ISO 18813 paragraph 4.19, rather than the existing requirements in subpart 160.043. Second, this proposed rule would update references to the jackknife found in § 199.175. Third, this proposed rule would remove the requirement for the Coast Guard to issue a COA and would replace it with the requirement for the manufacturer to self-certify that their equipment meets the requirements outlined in ISO 18813. Fourth, Table 1 to 199.175—Survival Craft Equipment would be updated so that a jackknife could replace both a can opener and a knife when they are required as specified in § 199.175.

The standards set by ISO 18813 are broader and less specific than those contained in 46 CFR part 160, subpart 160.043, but they would not substantively alter the requirements for the design of jackknives. The proposed standards allow the manufacturer additional options for the materials used in the jackknife. There would also be a reduction in the test requirements. ISO 18813 requires only the cutting test, while subpart 160.043 requires three tests, including the same cutting test. The additional tests required by subpart 160.043—the hardness test and the bending and drop test—do not lead to an increase in safety nor an improvement in equipment quality. The Coast Guard therefore proposes to remove the requirements for these tests.

Knife

Buoyant apparatuses, inflatable liferafts, lifeboats, rigid liferafts, and rescue boats are required to carry a knife. The proposed rule would revise §§ 160.010-3(a)(12)(ii) and 160.051-11(b) to update the quantity of knives to be carried to match the LSA Code and would add regulatory text allowing a knife to be replaced with a jackknife meeting the requirements in § 199.175(b)(16). If the apparatus is permitted to accommodate 13 or more persons, the proposed rule removes requirements for jackknives in § 199.175(b)(17), which may be substituted for a second non-folding knife, and, instead, proposes they must meet the requirements in ISO 18813.

Mirror

All lifeboats and inflatable liferafts are required to carry a signaling mirror approved by the Coast Guard under approval series 160.020, using the “USCG Specification for Signaling Mirrors for Merchant Vessels” issued in October 1944. This proposed rule would update § 199.175(b)(19) and make two changes to the current requirements. First, the Coast Guard proposes to change the standard for signaling mirrors to the requirements in ISO 18813 paragraph 4.23. Second, this proposed rule would remove the requirement for the Coast Guard to issue a COA and replace it with the requirement for the manufacturer to self-certify that their equipment meets the requirements outlined in ISO 18813. The requirements in ISO 18813 provide the same safety standards as the 1944 Coast Guard specification, but would allow for more flexibility in meeting the requirements. The 1944 Coast Guard specification requires the mirror to be rectangular; ISO 18813 allows the mirror to be any shape provided the reflective surface meets the minimum area requirements.

Provisions

All lifeboats and SOLAS A pack liferafts are required to carry provisions approved by the Coast Guard under approval series 160.046, using the “Guidelines for Approval of Emergency Provisions for Lifeboats and Liferafts” issued in August 1997. This proposed rule would create a new subpart 160.046 that outlines the requirements for emergency provisions that must comply with ISO 18813 paragraph 4.31.

The design and test requirements found in ISO 18813 are the same as those found in the aforementioned Coast Guard guidelines for approval. This proposed rule would formalize those requirements into regulation, while maintaining the current level of safety. Manufacturers would be required to continue to maintain a valid COA under approval number 160.046 and prove compliance with the referenced standards. Unlike the changes regarding the other survival craft equipment described in this proposed rule, there will be no costs or cost savings associated with these provisions as manufacturers will still need a COA under approval number 160.046. The proposed change only formalizes preexisting agency policy, which will lead to no reduction in burden. The Coast Guard is retaining the requirement for a valid COA for provisions because we recognized that provisions is a critical part of lifesaving equipment. We know that manufacturers also produce emergency provisions for other outdoor-related industries.Validating the performance of the provision can only be done by independent laboratory testing rather than by physical inspection. We want to maintain the current level of quality and nutritional value that is necessary specific to the maritime industry and environment.

Sea Anchor

All lifeboats, rescue boats, and rigid liferafts are required to carry a sea anchor approved by the Coast Guard under approval series 160.019. Inflatable liferafts and buoyant apparatuses are also required to carry sea anchors, but those sea anchors are not required to be Coast Guard-approved. The Coast Guard approves sea anchors using either the “USCG Specification for Sea Anchors,” revised in August 1944, or ISO 17339. This proposed rule would update § 199.175(b)(27) and state that the sea anchor must comply with ISO 17339. The Coast Guard also proposes to remove the requirement for the Coast Guard to issue a COA and replace it with the requirement for the manufacturer to self-certify that their equipment meets the requirements outlined in ISO 17339. This proposed rule would result in a reduction in paperwork and information collection and a reduction in the overall administrative burden to the manufacturers of sea anchors from no longer requiring a COA.

Water

All lifeboats and SOLAS A pack liferafts are required to carry emergency drinking water approved by the Coast Guard under approval series 160.026. Subpart 160.026—Water, Emergency Drinking (In Hermetically Sealed Containers), for Merchant Vessels, contains the regulations for Coast Guard approval of emergency drinking water. The last substantive update to subpart 160.026 occurred on September 8, 1965 (30 FR 11466). In November 1981, the Coast Guard issued a policy letter, “Guidelines for Approval of Emergency Drinking Water for Lifeboats and Liferafts,” outlining alternative requirements for the approval of emergency drinking water.

This proposed rule would remove and reserve subpart 160.026 and move the requirements for drinking water from subpart 160.026 to § 199.175(b)(40). The proposed rule would make three changes to the current requirements. First, the emergency drinking water would be required to comply with ISO 18813 paragraph 4.46 rather than the existing requirements in subpart 160.026. Second, the rule would remove the requirement for the Coast Guard to issue a COA and replace it with the requirement for the manufacturer to self-certify that their water meets the requirements outlined in ISO 18813. Third, water quality would be required to be verified by the local municipality or an independent laboratory accepted by the Coast Guard.

Current Coast Guard regulations in subpart 160.026 only allow for the use of cans as water receptacles, while ISO 18813 allows for the use of different types of water receptacles. The 1981 Coast Guard Guidelines allow for the use of flexible material in the water receptacle. ISO 18813 and the Coast Guard Guidelines have the same requirements for the flexible material, and there are no changes in the testing requirements between the Coast Guard Guidelines and ISO 18813. Incorporating ISO 18813 would update regulations to allow flexible material for water receptacles in addition to cans, in accordance with 1981 Coast Guard guidelines.

Sailing School Vessels

In addition to the types of equipment discussed above, this proposed rule would also update the survival craft requirements for sailing school vessels found in §§ 169.525 through 169.529. We propose to reference the equipment requirements in § 199.175. This would eliminate the unique requirements for survival craft equipment on sailing school vessels, such as a lantern, matches, illuminating oil, and storm oil.⁸ This proposed change would align outdated requirements with the modern standards in § 199.175 that are applicable to other vessels in commercial service. As a result of these proposed changes, equipment manufacturers would be able to manufacture one piece of equipment that is acceptable on all types of U.S.-flagged vessels.

⁸ For the full set of requirements being modified and eliminated, refer to table 39 in the RA. None of these changes will result in costs or costs savings, which is explained in table 39.

VI. Incorporation by Reference

Material proposed for incorporation by reference is currently listed in § 199.05 and would also be added to the new § 160.046-3. The substance of the individual standards is described in section V. of this preamble, and we have also summarized them in section VII.L. Copies of the material are available to purchase from the publishers at the addresses listed in §§ 160.046-3 and 199.05. Information about purchasing these standards is also available online (via the internet). Before publishing a binding rule, we will submit this material to the Director of the Federal Register for approval of the incorporation by reference.

VII. Regulatory Analyses

We developed this proposed rule after considering numerous statutes and Executive orders related to rulemaking. A summary of our analyses based on these statutes or Executive orders follows.

A. Regulatory Planning and Review

Executive Orders 12866 (Regulatory Planning and Review) and 13563 (Improving Regulation and Regulatory Review) direct agencies to assess the costs and benefits of available regulatory alternatives and, if regulation is necessary, to select regulatory approaches that maximize net benefits (including potential economic, environmental, public health and safety effects, distributive impacts, and equity). Executive Order 13563 emphasizes the importance of quantifying costs and benefits, reducing costs, harmonizing rules, and promoting flexibility. Executive Order 13771 (Reducing Regulation and Controlling Regulatory Costs) directs agencies to reduce regulation and control regulatory costs and provides that “for every one new regulation issued, at least two prior regulations be identified for elimination, and that the cost of planned regulations be prudently managed and controlled through a budgeting process.”

The Office of Management and Budget (OMB) has not designated this proposed rule a significant regulatory action under section 3(f) of Executive Order 12866. Accordingly, OMB has not reviewed it. DHS considers this rule to be an Executive Order 13771 deregulatory action.⁹ A regulatory analysis (RA) follows.

⁹ See the OMB Memorandum titled “Guidance Implementing Executive Order 13771, titled ‘Reducing Regulation and Controlling Regulatory Costs' ” (April 5, 2017).

As discussed in section V of this proposed rule, the Coast Guard would remove the requirement for nine types of survival craft equipment to be approved by the Coast Guard from 46 CFR part 160 in subchapter Q (Equipment, Construction, and Materials: Specifications and Approval) and from § 199.175 (Survival Craft and Rescue Boat Equipment). The requirement for COAs on these nine types of equipment (bilge pumps, compasses, first-aid kits, fishing kits, hatchets, jackknives, mirrors, sea anchors, and water) would be replaced by a self-certification requirement, in order to comply with the LSA Code. For those types of equipment that still require a COA, provisions and fire extinguishers, we do not estimate any changes in costs or cost savings.¹⁰ Finally, this proposed rule would update the survival craft requirements for sailing school vessels found in §§ 169.525 through 169.529, eliminating the unique requirements for survival craft equipment on sailing school vessels.

¹⁰ Knives are not required to be Coast Guard approved, however they must meet the requirements in the LSA Code. This is an administrative change that will lead to no cost or cost savings.

Table 3 provides a summary of the affected population, costs, cost savings, and benefits of this proposed rule. The affected population includes the manufacturers of the survival craft equipment and the vessels equipped with survival craft. Additionally, we estimate the potential cost savings to manufacturers by reducing reporting, recordkeeping, and production requirements of this survival craft equipment. We estimate the potential cost savings to vessel owners and operators by the price reductions in survival craft equipment, and we estimate the potential cost savings for the Government for reducing the review necessary for certain equipment. We estimate an annualized cost savings to industry of $335,733 (with a 7-percent discount rate) and an annualized cost savings to Government of $9,142 (with a 7-percent discount rate) for a total annualized cost savings of $344,875. Using a perpetual period of analysis, we estimate the total annualized cost savings of this notice of proposed rulemaking (NPRM) to be $241,000 in 2016 dollars and discounted back to 2016 using a 7-percent discount rate.¹¹

¹¹ This analysis assumes the implementation year for this rule would be 2021.

Affected Population

This proposed rule would impact four separate affected populations. First, this proposed rule would impact manufacturers of Coast Guard-approved equipment because it changes the standards and approval process for nine types of survival craft equipment. Second, this proposed rule would impact any new and existing U.S.-flagged vessels that carry survival craft because it would reduce the cost of buying and replacing survival craft equipment. Third, this proposed rule would impact small passenger vessels inspected under subchapter K or T because they are required to maintain a separate first-aid kit onboard, and this rule reduces the cost of replacing first-aid kits. Fourth, this proposed rule would impact sailing school vessels, but we do not estimate any costs, cost savings, or benefits to these vessels. This proposed rule would remove table 169.527 from part 169 and it would remove the requirements for equipment outlined in § 169.529(a) through (mm) as these requirements are outdated and the Coast Guard is moving the reference to these pieces of equipment to part 199.

Data on manufacturers comes from the U.S. Coast Guard Maritime Information Exchange (CGMIX),¹² which is a public-facing version of the Marine Information for Safety and Law Enforcement (MISLE) database, unless otherwise specified. For each subchapter of inspected vessels that are required to carry survival craft, we looked at annual data (2008-2017) ¹³ from the MISLE database to estimate the number of vessels that would be affected by this proposed rule. We used this timeframe of vessel data from MISLE to obtain the average number of vessels, survival craft, and survival craft equipment presented in the vessel populations in the following sections.

¹² https://cgmix.uscg.mil/

¹³ The Coast Guard used 10 years of MISLE data for a robust data set.

Manufacturers of Coast Guard Approved Equipment

The Coast Guard is proposing to modify approval requirements for nine types of survival craft equipment, discussed in detail in section V of this proposed rule. These nine types of equipment include: (1) Bilge pumps; (2) compasses; (3) first-aid kits for lifeboats and for liferafts; (4) fishing kits; (5) hatchets; (6) jackknives; (7) signaling mirrors; (8) sea anchors; and (9) emergency drinking water. For these nine types of survival equipment, there are 27 unique Coast Guard type-approved products.¹⁴ This proposed rule would impact products currently on the market as well as newly approved products. Those products affected by this NPRM that are currently on survival craft would remain acceptable for the purpose of carriage after this rule's implementation.

¹⁴ Type Approval is the primary process for equipment and materials to receive Coast Guard approval. The certificate is valid for 5 years, and the approval will be listed on the CGMIX.

The 2018 collection of information, “Supporting Statement for Title 46 CFR Subchapter Q: Lifesaving, Electrical, Engineering and Navigation Equipment, Construction and Materials & Marine Sanitation Devices (33 CFR part 159)” (OMB Control Number: 1625-0035) estimates that companies would seek Coast Guard approval for 3 percent of the number of survival craft equipment products on the market each year. The Coast Guard estimates that each new product approval replaces a preexisting product approval, such that the total number of approved products would not change each year, as the number of newly approved products has been historically small. Table 4 presents the annual average of new products each year for the nine types of survival craft equipment. To calculate the annual average of new products, we multiplied the values in the “Number of Approved Products” column (table 4), which contains the number of existing approved products for each type of survival craft equipment, by 3 percent (“Percentage of New Approvals Each Year” column).

U.S.-Flagged Vessels That Carry Coast Guard-Approved Equipment

This proposed rule would impact a total of 14,666 existing vessels. Of these vessels, we estimate the total amount of survival craft maintained by the affected population to be 34,456. Table 5 shows the breakdown of the survival craft population as follows: 2,142 inflatable buoyant apparatuses (IBAs), 25,910 liferafts, 3,472 lifeboats, and 2,932 rescue boats. These vessels, which are categorized by subchapter, are required to carry survival craft in accordance with the applicable regulations.

Table 6 presents vessels by the subchapter to which they are inspected in title 46 of the CFR. “Other vessels” includes public and recreational vessels not subject to inspection. The owners and operators of the 14,666 identified vessels would experience cost savings from the lower estimated cost of replacing equipment after this proposed regulation takes effect. We used this existing vessel population data from MISLE and multiplied it by the average number of IBAs, liferafts, lifeboats, and rescue boats per vessel, which we also retrieved from MISLE, to obtain our estimated survival craft population. This is the existing population of survival craft. Regarding those pieces of survival craft equipment that are non-durable and will be replaced within 10 years, this is the population that provides the number of survival craft that will need to replace Coast Guard-approved equipment with presumably less expensive equipment, because the replacement equipment would not need Coast Guard approval. Those vessels with previously approved survival craft equipment would not be required to replace their survival craft equipment until it expires or becomes unserviceable.

After establishing the existing number of current survival craft, we then estimate the growth in the number of survival craft each year in order to project out our affected population for the next ten years. To calculate the number of new survival craft each year, we multiply the “Number of New Vessels per Year” by each “Average per Vessel” column in table 6 to obtain our annual totals for each new survival craft type.¹⁵ We estimate that 14 new IBAs, 278 new liferafts, 46 new lifeboats, and 41 new rescue boats would be outfitted with equipment subject to this proposed rule each year.

¹⁵ “The Number of New Vessels per Year” column was calculated by taking the total number of new vessels by subchapter by year from the MISLE database. The Coast Guard calculated the “Average per Vessel” column by dividing column (b) by column (a) in table 5.

We then sum the totals for each survival craft type across each affected subchapter to obtain our estimated population of new survival craft each year for this NPRM. This annual growth in the survival craft population provides an estimate of the number of new survival craft that will enter the market each year. The vessel owners and operators of these craft would experience cost savings from buying some equipment, as discussed in this NPRM, which will no longer need Coast Guard approval. Table 6 presents the estimated total number of new survival craft each year.

Subchapter K and Subchapter T Vessels

This proposed rule would also affect all U.S.-flagged vessel operators regulated under subchapters K and T, as these vessel operators are required to maintain a Coast Guard-approved first-aid kit onboard their vessels, in addition to any first-aid kits carried in the survival craft. The owners and operators of these small passenger vessels would no longer be required to maintain Coast Guard-approved first-aid kits aboard the vessels themselves. Using MISLE data, we estimate there to be 2,069 existing small passenger vessels, with 101 new vessels being built on an annual basis. This number includes all small passenger vessels defined in subchapters K and T, found in §§ 121.710 and 184.710, respectively, regardless of what type of survival craft they have onboard. Therefore, this count may include vessels that do not have an IBA, lifeboat, liferaft, or rescue boats onboard.

Equipment Type for Each Survival Craft

The type of equipment each survival craft is required to carry varies depending on the distance a vessel is traveling. Inspected vessels must carry an equipment pack for an international voyage, with the exception of lifeboats on sailing school vessels, which, if they are equipped with lifeboats, must carry the equipment required in §§ 169.527 and 169.529. Currently, based on MISLE data, none of the seven U.S.-flagged sailing school vessels are equipped with lifeboats. Table 7 contains the equipment required by pack and type of survival craft.

Equipment Pack Types for Commercial Fishing Vessels

Commercial fishing vessels must be equipped with either a Coastal Service pack, a SOLAS A pack, or a SOLAS B pack depending on vessel size, distance traveled, whether the ocean route is designated as a cold-water route or warm-water route, and the number of persons onboard. Table 8 provides a brief description of the packs that can be carried by lifeboats and liferafts.¹⁶

¹⁶ Readers can find more information on Inflatable Liferafts for domestic service in the following link: https://ecfr.io/Title-46/sp46.6.160.160_1051.

Equipment Pack types for Survival Craft

We used vessel route types from MISLE to estimate the percentage of vessels with a SOLAS A pack compared to a SOLAS B pack. All vessels with “ocean” listed as a route type are presumed to carry survival craft with SOLAS A packs. We estimate the remaining route types, not listed as “ocean,” would have SOLAS B packs. Using commercial fishing vessel data from MISLE and knowledge from subject matter experts from the Coast Guard's Life Saving & Fire Safety Division (CG-ENG-4), who specialize in survival craft data, we estimate that 50 percent of non-ocean going fishing vessels will have Coastal Service packs and 50 percent of non-ocean going fishing vessels will have SOLAS B packs.

We created a distribution of SOLAS A, SOLAS B, and Coastal Service packs by pulling all U.S.-flagged vessels by the inspection subchapter and then pulling these vessels by route type from the MISLE database. We excluded any vessels that did not have survival craft or had an unknown field for survival craft in the MISLE database. The route-type designation included “Ocean” for ocean-going vessels in MISLE,¹⁷ which we designated as SOLAS A vessels, and the remainder were therefore SOLAS B vessels.¹⁸ We then calculated the number of SOLAS A packs by dividing the population of our vessels (by subchapter) by the sum of vessels that had “Ocean” routes and dividing that sum by the sum of vessels in that given subchapter. To calculate the percentage of SOLAS B packs, we simply subtracted the number of SOLAS A packs from 100 percent. This data pull provided the total number of inflatable liferafts and lifeboats, respectively, and the percentage of each survival craft pack type by subchapter, which is presented in table 9.

¹⁷ The “Ocean” designation in MISLE specifically refers to those vessels with SOLAS certificates that designates them as SOLAS A vessels. The MISLE data being pulled is from 2007-2017.

¹⁸ The sole exception was Commercial Fishing Vessels, which we broke out the Coastal routes and short international routes by vessel because Commercial Fishing Vessels are the only type of vessels in our affected population that would carry Coastal Service packs instead of only having SOLAS B packs for short international shipping routes.

We then estimated the number of liferafts and lifeboats by equipment pack type for existing and new vessels by looking at the total number of packs carried by lifeboats and liferafts. Table 10 presents the number of SOLAS A, SOLAS B, and Coastal Service packs by liferaft and lifeboat for each subchapter of vessels. The total number of inflatable liferafts with Coastal Service Packs (Column (a)) in table 10 is calculated by multiplying the percentage of Coastal Service Packs in liferafts and lifeboats (column (c) in table 9) by the total number of inflatable liferafts by subchapter (column c) in table 5). Column (b) in table 10, `Short Internatonal/SOLAS B packs for inflatable liferafts', is calculated by multiplying column (d) in table 9, which is the percentage of Short International/SOLAS B packs by vessel subchapter, by column (c) in table 5, which is the total number of inflatable liferafts by subchapter. Column (c) in table 10, `International/Solas A packs for liferafts', is calculated by multiplying column (e) in table 9, which is hte percentage of International/SOLAS A packs by vessel subchapter, by column (c) in table 5, which is the total number of inflatable liferafts by subchapter. Column (e) in table 10, `Short Interntaional/Solas B packs for lifeboats', is calculated by taking the sum of multiplying columns (c) and (d), the percentages of Coastal Packs and Short Intertanional/SOLAS B packs in table 9 by column (e) in table 5, which is the total number of lifeboats by subchapter. Column (f) in table 10, `Interntaional/Solas A packs for lifeboats' is calculated by multiplying column (e) from table 9, which is the percentage of International Packs/SOLAS A, by column (e) in table 5, which is the total number of lifeboats by subchapter.

Table 11 presents the total number of new packs needed each year for new survival craft. This table is calculated by taking the number of new lifeboats and liferafts presented in table 6 and multiplying that figure by the distribution in table 9 to obtain the number of new packs needed for the new liferafts and lifeboats on vessels each year.

Cost Savings

We anticipate that this proposed rule would generate a cost savings to: (1) Vessel owners and operators from having the option to purchase less expensive survival craft equipment; (2) equipment manufacturers from reducing reporting, record keeping, and production requirements of survival craft equipment; and (3) the Federal Government from reducing record keeping requirements. The details and calculations of the cost savings are discussed later in this NPRM.

Wages

This proposed rule would reduce the burden of review that is required by both industry and the Federal Government. This review includes preparing COA application renewals, and product instructions by certain manufacturers. We presume clerical employees would be responsible for all the manufacturer's recordkeeping activities, and production employees would be responsible for marking equipment and packing instructions. Federal Government employees who possess the technical knowledge of survival craft to review submissions to ensure safety standards would be senior engineers at the GS-14 grade. These employees would be responsible for the review of all the submitted information.

We calculate the costs for each activity by estimating the labor hours required in each labor category and then multiplying those burdens by the wage rate for each labor category. For this analysis, we calculated private sector wages using 2018 wage data from the U.S. Bureau of Labor Statistics (BLS) Occupational Employment Statistics (OES) for the miscellaneous manufacturing sector (North American Industry Classification System (NAICS) 339000).¹⁹ We added a load factor to the industry wages using December 2018 wage and total compensation data from the BLS Employer Costs for Employee Compensation (ECEC) survey, which accounts for employee benefits. This load factor represents the total benefits as a percentage of total salary.²⁰

¹⁹ https://www.bls.gov/oes/2018/may/naics3_339000.htm

²⁰ A loaded labor rate is what a company pays per hour to employ a personbeyond the hourly wage. Instead, the loaded labor rate includes the cost of benefits (health insurance, vacation, etc.). We calculate the load factor for wages by dividing total compensation by wages and salaries. For this analysis, we used BLS' Employer Cost for Employee Compensation/Manufacturing Occupations, Private Industry report (Series IDs, CMU2013000000000D and CMU2023000000000D for all workers using the multi-screen data search). Using 2018 Q4 (Quarter 4) Manufacturing data, we divided the total compensation amount of $39.09 by the wage and salary amount of $25.59 to get the load factor of 1.53 ($39.09 divided by $25.59). This data is found in table 10 of the Employer Costs for Employee Compensation December 2018 News Release available at https://www.bls.gov/news.release/archives/ecec_03192019.pdf

For Federal Government employees, Commandant Instruction 7310.1T, Reimbursable Standard Rates ²¹ provides fully loaded wages for both Coast Guard military and civilian employees and lists the loaded hourly wage rate for a GS-14 senior engineer as $105. Table 12 summarizes the loaded wage rates for industry used in this RA.

²¹ On page 2 of Enclosure 2 of the following link, the reader can access the in-government wage rates for USCG personnel: https://media.defense.gov/2018/Dec/12/2002071837/-1/-1/0/CI_7310_1T.PDF

Cost Savings to Equipment Manufacturers

We estimate that manufacturers of Coast Guard-approved equipment would have a cost savings associated with no longer having to complete COA applications and renewals to obtain and maintain Coast Guard approval. In addition, this proposed rule would remove recordkeeping and reporting requirements, and reduce testing requirements for some pieces of survival equipment.

Number of Survival Craft Products

This proposed rule would modify the approval requirements for nine types of survival craft equipment. For each type of equipment, companies manufacture unique products. In total, there are 27 products for these 9 types of survival craft equipment. These pieces of equipment are the specific items that vessel owners and operators purchase to be in compliance with the vessel carriage regulations found in 46 CFR subchapters C, T, K, and W.²² These pieces of equipment also account for the total items that must be stowed aboard survival craft.

²² Refer to the appendix titled “Appendix C: Carriage Requirements for all the Survival Craft Equipment” in the docket folder for more information on carriage requirements for all vessels affected by this NPRM.

To comply with the lifesaving equipment regulations in 46 CFR subchapter Q, manufacturers submit these products to the Coast Guard for review and approval. Once approved, the manufacturer of each piece of equipment must mark it (or stamp it) with its COA number. Table 13 presents the total number of pieces of survival craft equipment manufactured on an annual basis.

There are two types of survival craft equipment: (1) Items that are durable and need not be replaced or serviced frequently, such as bilge pumps, compasses, fishing kits,²³ jackknives, signaling mirrors, hatchets, and sea anchors; and (2) items that are not durable, expire, and must be replaced, such as first-aid kits and water. We used the annual number of pieces of survival craft equipment needed to stock new survival craft in order to estimate the number of new pieces of equipment manufactured and stamped on an annual basis. We estimate that, in the long term, the supply of new survival equipment would equal the demand of new survival craft equipment.

²³ There is one Coast Guard-approved fishing kit on CG-MIX currently. The only non-durable aspect of the fishing kit, the bait, is made of synthetic resin, plastisol, a form of rubber which, if stored properly, has an indefinite shelf life.

The Coast Guard does not have substantive data on how long these durable goods last, and we estimate that these goods would last as long as the survival craft themselves. We request comments from the general public and interested stakeholders regarding the length of time bilge pumps, compasses, fishing kits, jackknives, signaling mirrors, hatchets, and sea anchors last, and whether they last as long as the survival craft they equip.

We discuss the renewal rate of non-durable goods, first-aid kits, and water later in this analysis.²⁴ Table 13 lists the estimated number of pieces of survival craft equipment manufactured on an annual basis.

²⁴ Refer to the sections titled First Aid Kits, First Aid Kits for Liferafts and IBA, and Emergency Water further in the regulatory analysis.

Equipment Approval and Markings

In the current regulations, manufacturers seeking Coast Guard approval must submit a COA application with information such as technical plans, drawings, specifications, instructional materials, and test reports. In addition to the initial application, manufacturers of Coast Guard approved equipment must also submit application renewals every 5 years to maintain their approval status. Table 4 presents the estimated number of new COA applications for each equipment type, as the annual average number of new products each year.

Table 14 presents the estimated number of application renewals for each equipment type. Since the Coast Guard estimates that one of every five applications will be renewed on an annual basis, the number of renewal applications is equal to 20 percent of the total number of products. Once a product has been approved, the manufacturer must stamp each individual piece of survival craft equipment with the Coast Guard approval number and other information.

We estimate that it would take the technical staff 2 hours ²⁵ to prepare a new application, and the clerical staff would spend 0.17 hours per application on recordkeeping, for a total cost of $135 per new application [(2 technical hours × $65) + (0.17 clerical hours × $29) = $135]. For renewal applications, we estimate a burden of 0.5 technical hours and 0.17 clerical hours, for a total cost of $37 [(0.5 technical hours × $65) + (0.17 clerical hours × $29) = $37]. Under this proposed rule, the Coast Guard would no longer require COA applications for any new survival craft equipment. As shown in table 15, we estimate this would result in a cost saving to industry of approximately $108 per year for new applications and approximately $200 per year for renewal applications. This results in a total annual cost savings of about $308.

²⁵ Based on information from the subchapter Q ICR.

The Coast Guard is proposing to remove the requirements that equipment must be marked with a Coast Guard approval number. With the exception of compasses and hatchets, equipment only needs to be marked to indicate that it meets standards set in ISO 18813. Compasses would no longer need to be marked with their Coast Guard approval number, but would still need to be marked to indicate they meet ISO 25862, as is currently required by the Coast Guard approval guidelines for magnetic compasses in lifeboats and rescue boats. The Coast Guard is proposing that hatchets would not need to be marked at all, as they do not have to meet any consensus standard.

The Coast Guard assumes the burden to mark the equipment is the same whether it is being marked with a Coast Guard approval number or whether it is marked indicating that it meets the ISO standard; therefore, this proposed change would only result in a cost savings to the manufacturers of hatchets. The Coast Guard estimates that it takes industry 0.06 hours of production labor time ²⁶ to mark each individual piece of equipment at a cost of $1.44 (0.06 hours × $24 = $1.44) per piece of equipment. We estimate that 92 hatchets would be marked each year (see table 13), for a total cost savings of approximately $132 ($1.44 × 92).²⁷

²⁶ This is based on information from the subchapter Q information collection request (ICR).

²⁷ This value is incorporated in column (a) of table 24.

Instructions

The Coast Guard currently requires that equipment manufacturers provide instruction material with certain types of equipment to ensure that crew members have access to information on the proper use of the equipment. We currently require instructions for five of the nine types of equipment subject to this proposed rulemaking: Compasses, first-aid kits, mirrors, fishing kits and jackknives. ISO 18813 requires instructions for three types of equipment: First-aid kits, mirrors, and fishing kits. ISO 18813 does not state that instructions need to be provided for compasses and jackknives; therefore, the manufacturers of compasses and jackknives would no longer have to develop, maintain, and pack instructions for their products under this proposed rule.

Furthermore, the Coast Guard requires that instructions be updated and submitted with application renewals. Since manufacturers of this equipment would no longer have to submit renewal applications, we estimate that manufacturers would no longer update their instructions, resulting in a cost savings for manufacturers for all five types of equipment. In addition to these cost savings, there is a cost savings associated with removing the need to pack the instructions with the equipment. Using the same methodology to estimate the number of pieces of equipment that need to be marked annually, we estimate that the same number of instructions required to be packed for pieces of equipment would be the same as the number of pieces of equipment required to be marked. Table 16 presents the number of instructions developed and renewed each year under the baseline presented in the subchapter Q ICR.²⁸

²⁸ To access the subchapter Q ICR follow this link: https://www.reginfo.gov/public/do/PRAViewICR?ref_nbr=201811-1625-005. Select “All” in the first box titled, “Display additional information by clicking on the following” and scroll down to the “Number of Information Collection (IC) in this ICR: 5”. In this section, you will be able to access Approvals, Instruction Materials, Production Tests and Laboratory Inspections, Markings, and the Independent and Recognized Labs forms.

Based on information in the current subchapter Q ICR, we estimate that it takes 8 hours of technical time, costing $520 (8 hours × $65) to prepare a new set of instructions. Similarly, we estimate that it takes 2 hours of technical time, costing $130 (2 hours × $65) to prepare instructions for renewal submissions. The Coast Guard estimates that packing each set of instructions would incur the same burden (amount of time) as marking each piece of equipment, or 0.06 hours of production. We estimate the cost of marking each piece of equipment to be $1.44 [0.06 hours × $24 (production staff time)].

In tables 17, 18 and 19, we present the total annual industry cost savings for no longer having to develop new instructions for some types of new survival craft equipment, for no longer having to update instructions for renewal applications, and for packing fewer instructions. Table 18 presents the cost savings to develop new instructions for those types of survival craft equipment requiring instructions, which leads to a total annual cost savings of approximately $63. The total cost in columns (b) and (d), $520, is the loaded wage of a safety engineer and inspector, $65, multiplied by the estimated burden of work, 8 hours, for preparing a set of new instructions. This table presents the baseline scenario burden, the proposed post-regulatory scenario burden, and the difference between the two as cost savings.

Table 18 presents the cost savings of no longer having to update instructions for renewal applications, which leads to a total cost savings of about $416 annually. The total cost in columns (b) and (d) is the loaded wage of a safety engineer and inspector, $65, multiplied by the estimated burden of work, 2 hours, for preparing instructions for renewal submissions. This table presents the baseline scenario burden, the proposed post-regulatory scenario burden, and the difference between the two as cost savings.

Table 19 presents the cost savings of having to pack fewer instructions, which leads to a total annual cost savings of approximately $2,218. The total cost in columns (b) and (d) is the loaded wage of a production employee or assembler, $24, multiplied by the estimated burden of work, 0.06 hours, for packing instructions. Table 19 presents the baseline scenario burden, the proposed post-regulatory scenario burden, and the difference between the two as cost savings.

Laboratory Testing and Recordkeeping

As current regulations stand, the Coast Guard requires product testing and recordkeeping for some lifesaving equipment to ensure the equipment meets minimum performance requirements. Table 20 presents a comparison of the current Coast Guard testing requirements and the testing requirements stated in ISO 18813 and ISO 25862 (for compasses). This table also contains a qualitative description of the change in costs associated with modifying the current testing requirements. We were unable to obtain any cost data from the Coast Guard-approved labs that conduct the testing of this equipment.²⁹

²⁹ We contacted four Coast Guard approved laboratories to obtain cost estimates for the current and proposed testing requirements; however, the labs were unable to provide any cost information. The Coast Guard would appreciate any public comments on the costs associated with the current or proposed testing requirements.

Based on the information from the current subchapter Q ICR, we estimate that record-keeping takes 2 hours of clerical time per year and costs $58 (2 hours × $29 clerical staff loaded hourly wage rate). The Coast Guard is proposing to remove the requirements for testing records for seven types of equipment listed in this NPRM, as these manufacturers would no longer need these records to document that their product meet the requirements of the ISO 18813. Table 21 presents the total cost savings of about $1,392 to industry from removing requirements to keep records of laboratory testing. The total cost in columns (b) and (d), $58, is the loaded hourly wage of a record clerk, $29, multiplied by the estimated burden of work, 2hours, for fulfilling recordkeeping requirements. This table presents the baseline scenario burden and the post regulatory scenario burden and then presents the difference of the two burdens as cost savings.

Laboratory Inspections

The Coast Guard currently requires inspectors to examine the manufacturing process in order to ensure that quality control is maintained throughout. This proposed rule would remove these requirements; however, the Coast Guard is unable to determine if this removal would generate any cost savings to industry. Manufacturers are likely to still have their production line inspected to ensure quality as part of best industry practices. Moreover, manufacturers may continue third-party testing to maintain certifications, such as the ISO 9001 standard, or to meet international regulatory obligations. At the time of this NPRM, the Coast Guard does not have enough information to quantify any potential changes in cost resulting from the changes in inspection requirements.

Additionally, the Coast Guard requires inspecting entities to issue annual reports to enable a comparison between the production line and the prototype tested by the Coast Guard.³⁰ We were able to estimate a cost savings that resulted from the removal of this reporting requirement using information from the subchapter Q ICR, which estimated that this recordkeeping takes 24 hours of clerical time per year on average and costs $696 (24 hours × $29 clerical wage rate). The Coast Guard proposes to remove this reporting requirement for all types of survival craft equipment. As shown in table 22, we estimate a total annual cost savings of approximately $16,008. This table presents the baseline scenario burden, the proposed post regulatory scenario burden, and the difference between the two as cost savings.

³⁰ While the Coast Guard currently requires testing for jackknives, it does not require laboratory inspections. Therefore, there are no cost savings to jackknives manufacturers for this proposed change.

Total Cost Savings to Manufacturers

Table 23 presents the annual total cost savings to equipment manufacturers. We estimate that manufacturers of Coast Guard-approved bilge pumps, lifeboats, compasses, first-aid kits, fishing kits, hatchets, jackknives, signaling mirrors, sea anchors, and emergency water would save approximately $20,537 per year.

Cost Savings to Vessel Owners or Operators

After gathering price data from a variety of sources, we estimate that removing approval requirements would allow owners and operators of vessels to purchase less expensive equipment.³¹ While there are several companies selling Coast Guard-approved equipment, online information generally does not specify whether the equipment meets ISO 18813 or similar standards. As a result, we had difficulty finding price data for survival craft equipment products clearly stating they met ISO 18813 standards. However, we were able to identify prices for two products—emergency provisions and emergency water—that the manufacturer or advertiser explicitly stated met the requirements of the ISO 18813 standard.

³¹ To assess price data, we looked at online retailers of survival craft equipment. A search of online retailers revealed that equipment that was not type approved was less expensive than similar equipment that was type approved.

We then applied percentage price difference between emergency water products and emergency provisions, which had both Coast Guard approval and met the requirements of ISO 18813, and those emergency provisions and water products that only met the requirements of ISO 18813.³² On average, products without Coast Guard approval were approximately 28 percent ³³ less expensive than products with Coast Guard approval.

³² Although provisions are not subject to changes in this NPRM, we still examined them for the purposes of price comparison as it provided a depth of data allowing us to comprise a more robust ratio.

³³ We calculated this 28 percent by finding the price differential for those products that were Coast Guard-type approved and those products that were not Coast Guard-approved, but met ISO standards.

We applied this 28-percent price decrease to all the products affected by this proposed rule, with the exception of first-aid kits, because the kit content requirements differ between the ISO standard and current Coast Guard standards, and we estimate the change in price for first-aid kits by the difference in replacement costs for first-aid kits. These differences are explained in further detail in the section, First-Aid Kits, in this RA. For this analysis, we quantified the cost savings to new vessels from being able to purchase less expensive equipment, and the cost savings to existing vessels of replacing expired items with less costly items. For durable items, without data to estimate how frequently these items are replaced, we are not able to estimate the cost savings to the owners and operators of existing vessels for purchasing replacement equipment that we estimate would be 28 percent cheaper. However, since emergency water and first-aid kits expire, we estimate the cost savings for purchasing replacement equipment for the owners and operators of both new and existing vessels based on how frequently this non-durable equipment must be replaced. This information is presented later in this analysis.

Durable Equipment: Bilge Pumps, Compasses, Fishing Kits, Hatchets, Jackknives, Mirrors, and Sea Anchors

As discussed in the previous paragraph, we estimate that only new vessels will purchase bilge pumps, compasses, fishing kits, hatchets, jackknives, mirrors, and sea anchors for their survival craft. Based on population estimates (presented in table 5), 14 new IBAs, 278 new liferafts, 46 new lifeboats, and 41 new rescue boats would be subject to this proposed rule each year. Table 7 lists the survival equipment that lifeboats, liferafts, rescues boats, and IBAs are required to carry. We multiply the populations in table 5 by the carriage requirements in table 7 to yield the total number of items purchased for new survival craft in table 25 below. For example, the Coast Guard requires new lifeboats to be equipped with bilge pumps, and there were 46 new lifeboats recorded in table 5, meaning there will be 46 purchases of new bilge pumps per year. ³⁴ Only the new lifeboats with equipment packs for international voyages would require fishing kits (see table 7) and all new lifeboats and rescue boats would be equipped with compasses, for a total of 87 purchases of compasses each year. All 338 new IBAs, liferafts, and lifeboats are required to be equipped with mirrors. Finally, 271 liferafts with a SOLAS A or SOLAS B pack would be equipped with two sea anchors each. This proposed rule would require that 108 IBAs, lifeboats, rescue boats, and liferafts with coastal service packs each have one sea anchor.

³⁴ The Coast Guard requires all non-self-bailing lifeboats and rescue boats to have bilge pumps. Based on discussions with subject matter experts in the Coast Guard Office of Design and Engineering Standards, Lifesaving & Fire Safety Division (CG-ENG-4), the Coast Guard estimates that all new lifeboats will be non-self-bailing and will therefore require bilge pumps, and all new rescue boats that are not also lifeboats will be self-bailing, and therefore will not require bilge pumps.

Table 24 presents the annual cost savings from new vessels removing Coast Guard approval for bilge pumps, compasses, fishing kits, hatchets, jackknives, mirrors, and sea anchors. In total, we estimate an annual cost savings of approximately $99,696 for U.S.-flagged vessels by removing the type approvals for these seven types of survival craft equipment.

Jackknives as a Replacement for Can Openers

As specified in § 199.175(b)(5), the Coast Guard allows jackknives to meet the requirements of a can opener, thereby permitting jackknives to fulfill two requirements. In § 199.175, Table 1 to § 199-175 states that only lifeboats and rigid liferafts with SOLAS A packs require can openers, and only lifeboats may carry jackknives. This means that rigid liferafts with SOLAS A packs are currently carrying both knives and can openers. The proposed rule would allow these vessels to replace their knives with jackknives, resulting in a cost savings to vessel owners from being able to purchase only a jackknife instead of both a knife and a can opener. We estimate that there are a total of 179 new liferafts each year that carry SOLAS A packs and, further, assume that these vessel owners and operators would choose to replace a knife with a jackknife, thus forgoing the need to purchase a can opener.³⁵ We estimate the price of a can opener meeting the requirements of ISO 18813 to be $6.³⁶ Therefore, we estimate that vessel owners and operators would save $1,074 (179 SOLAS A liferafts × $6 per can opener) for no longer needing can openers because of meeting the jackknife requirements.

³⁵ We estimate the cost savings for only one can opener because the use of a jackknife will only fulfill the replacement requirement for one can opener.

³⁶ We calculated this by taking the average of 10 can opener products on the market that meet ISO 18813 requirements. The Coast Guard is proposing that can openers now meet the requirements of ISO 18813.

Emergency Water

The Coast Guard requires survival craft with SOLAS A packs be stocked with 3 liters of water per person, and that lifeboats with SOLAS B packs be stocked with 1.5 liters of water per person. We estimate the average cost of Coast Guard-approved water to be $4 per liter,³⁷ while the cost of 1 liter of emergency water that meets the ISO 18813 standard to be $3.³⁸ The price difference between the Coast Guard and ISO water is $1 per liter.³⁹ This is the estimated additional cost of Coast Guard approval, which is counted as cost savings. Emergency water expires and will need to be replaced every 5 years; therefore, the Coast Guard estimates that 20 percent of existing survival craft and 100 percent of new survival craft will need to purchase emergency water annually.

³⁷ We calculated this by taking the average of 14 emergency drinking water products on the market that were Coast Guard approved.

³⁸ We calculated this by taking the average of 14 available emergency drinking water products on the market that were compliant with ISO 18813 only.

³⁹ To calculate this, we took the average of emergency drinking water prices that were Coast Guard approved and subtracted them from emergency drinking water prices that need only meet the ISO standard.

We estimate that industry would save a total of $183,939 on an annual basis (3,227 survival craft × 19 people per survival craft × 3 liters of water × -$1 cost savings) for survival craft with SOLAS A packs during Years 1 through 5 of implementation.⁴⁰ To calculate this cost savings, we took the 12,306 existing liferafts with SOLAS A packs and 2,744 lifeboats with international voyage packs (see table 10) for a total of 15,050 existing survival craft that are required to stock emergency water. We then estimated that 20 percent (100 percent of these survival craft ÷ 5 years) or 3,010 survival craft [(12,306 liferafts × 20 percent) + (2,744 lifeboats × 20 percent)] will replace their emergency water annually. Additionally, all 38 new lifeboats with international packs and 179 new liferafts with SOLAS A packs (see table 11) are required to buy emergency water. We summed these totals to get 3,227 survival craft that will need to purchase emergency water on an annual basis (3,010 existing survival craft + 38 new lifeboats + 179 new liferafts). Table 25 presents these cost savings.

⁴⁰ We calculated this by taking the average of the survival craft capacity for all survival craft. We retrieved this data from the MISLE database on November 11, 2019.

In Years 6 through 10, there would be more cost savings because vessels will have entirely replaced their survival craft by Year 6, as described earlier in this proposed rule, therefore we estimate an annual cost savings of about $196,308 [3,444 survival craft (3227 + 217 new craft) × 19 people × 3 liters of water × -$1 cost savings] for survival craft with SOLAS A packs. Table 26 presents these cost savings.

We used the same methodology when calculating the number of SOLAS A packs in Years 1 through 10 of implementation in order estimate the total costs savings for survival craft with SOLAS B packs. There are a total of 728 existing liferafts with SOLAS B packs (see table 10). We estimate that 20 percent of these survival craft or 146 survival craft (728 lifeboats × 20 percent) will replace their emergency water annually. Additionally, all 8 new lifeboats with SOLAS B packs are required to buy emergency water, for a total of 154 survival craft (146 lifeboats + 8 new lifeboats) purchasing emergency water in Years 1 through 5. In Years 6 through 10, the number of existing lifeboats will increase by eight to account for the new vessels that will be built in Years 1 through 5 (154) for a total of 162 survival craft (154 existing survival craft + 8 new lifeboats).

The cost savings for survival craft with SOLAS B packs purchasing emergency water would be approximately $4,389 (154 survival craft × 19 people × 1.5 liters of water × -$1 cost savings) in Years 1 through 5 and approximately $4,617 (162 survival craft × 19 people × 1.5 liters of water × -$1 cost savings) in Years 6 through 10. Table 27 presents these cost savings in Years 1 through 5 of implementation, and table 28 presents these cost savings in Years 6 through 10 of implementation.

Table 29 presents the total annualized cost savings to vessel owners and operators from removing Coast Guard approval requirements for emergency water. The Coast Guard estimates an annualized cost savings of about $193,571 with a 7-percent discount rate ($194,162 with 3-percent discount rate).

First-Aid Kits

The Coast Guard is proposing to modify the requirements for first-aid kits so that all survival craft would need to meet the standards outlined in ISO 18813. In addition to removing the testing requirements for the kits, this proposed change would modify the required contents of first-aid kits, by removing the requirements for some items, adding additional items, or changing the number of mandatory items. Since items within the kits expire and need to be replaced, the proposed change would impact both new and existing vessels including small passenger vessels described in the section Subchapter K and Subchapter T in this preamble. Table 30 highlights these differences in the first-aid kit requirement. Due to the differences in the first-aid kits, we estimated the cost of purchasing each of the individual items in the kit.

First-Aid Kits for Lifeboats and Rescue Boats

We estimate that new vessels with lifeboats or rescue boats will have a cost savings as a result of the proposed changes to first-aid kits because we estimate that first-aid kits that meet the proposed standard are $40 less expensive than Coast Guard-approved kits under approval series 160.041. We estimate that a total of 87 new lifeboats and rescue boats will purchase a first-aid kit each year for a total costs savings of approximately $3,480 (87 survival craft × -$40 cost savings).

The Coast Guard is not requiring existing vessels to replace their current kits; however, existing vessels must replace medication and ointments within the kits by their expiration date. Currently, vessels must replace their iodine swabs, pain relief medication, and eye ointment, which we estimate costs about $19 per kit.⁴¹ We calculated the cost per kit by taking the average price for 10 different iodine swab products, 12 different pain relief medication, and 8 different eye ointments. Under the proposed rule, these vessels would no longer have to replace eye ointment, and would need to replace fewer doses of pain relief medication. Additionally, vessel operators would be able to replace iodine swabs with less expensive antiseptic preparation. However, under this proposed rule, vessels would incur an additional cost from replacing the burn cream in the kits, as required by ISO 18813 shown above in table 30. We estimate the cost of replacing these items to be $19, meaning the proposed change is cost neutral to existing vessels with lifeboat first-aid kits.⁴²

⁴¹ ISO 18813 uses the specific language of Analgesic and Ophthalmic when describing the medication in the first-aid kits. Refer to the appendix titled “Appendix B: Product Prices” in the docket folder for more information on product prices for these items that comprise the first-aid kit.

⁴² The Coast Guard used the same price estimation for the average cost of these items as the cost it would take to replace them.

First-Aid Kits for Liferafts and IBAs

We estimate that first-aid kits that meet the requirements of ISO 18813 will be, on average, $1 less expensive than the Coast Guard-approved kits for liferafts and IBAs.⁴³ All 271 new liferafts and all 14 new IBAs would need to be equipped with the kits each year for an annual cost savings of $285 (285 survival craft ×−$1 cost saving).⁴⁴ Liferaft first-aid kits are sealed in plastic bags, and most drugs expire within a 2- to 3-year timeframe. Vessel owners and operators have to replace the entire first-aid kit with a brand new kit after using even one item. Once the packaging for the kit is opened, the majority of items in it will have the same expiration date, not just the individual item.⁴⁵ Therefore, the Coast Guard estimates that vessels will replace the items in their first-aid kits once they have expired, every 2.5 years (average of 2 and 3 years), and this process occurs during the annual servicing at an approved servicing facility.

⁴³ The Coast Guard took the average price of six Coast Guard approved first-aid kits and subtracted it from an average of six first-aid kits that met ISO standards.

⁴⁴ There are 278 liferafts affected by this rule, but those requiring SOLAS A and B packs (271 liferafts) will be required to have first-aid kits.

⁴⁵ We contacted a liferaft servicing firm to determine how the expired items in liferaft and lifeboat first-aid kits are replaced.

We calculate that 40 percent (one replacement every 2.5 years) of vessels would replace these items annually. Forty percent of all existing 2,142 IBAs and 24,097 liferafts [table 10 (sum of the totals for SOLAS A and SOLAS B for inflatable liferafts columns)] would be 10,496 survival craft [(2,142 IBAs × 40 percent) + (24,097 liferafts × 40 percent)]. Beginning in Year 3, the new survival craft from Year 1 would need to replace their kits for a total of 10,781 survival craft (10,496 existing survival craft + 285 survival craft built in Year 1). In Year 4, the new survival craft from Year 2 would need to replace their kits, but those from Year 1 would not need to do this since they would have replaced their aid kits in the prior year. Therefore, the total needing to replace first-aid kits would still be 10,781 survival craft (10,496 existing survival craft + 285 survival craft built in Year 2). In Year 5, the survival craft built in Year 1 and Year 3 would replace their kits for a total of 11,066 survival craft (10,496 existing survival craft + 285 survival craft built in Year 1 + 285 survival craft built in Year 3). This pattern continues over the 10-year analysis period. In conclusion, we estimate the total annualized cost savings from removing Coast Guard approval for liferaft first-aid kits would be $9,283 with a 7-percent discount rate as shown in table 31.

First-Aid Kits for Small Passenger Vessels (Subchapters K and T)

This NPRM would also remove Coast Guard approval requirements for first-aid kits aboard small passenger vessels, which the Coast Guard regulates under subchapters K and T. Small passenger vessels are currently required to have first-aid kits approved under approval series 160.041; therefore, we used the same cost savings estimates for replacing first-aid kits in the section titled First-Aid Kits for Lifeboats and Rescue Boats. This comes to $41 per first-aid kit. The Coast Guard applied these estimates to small passenger vessels which will no longer need Coast Guard approval for the first-aid kits aboard the vessels themselves. Using data from MISLE, we estimate there would be 101 new small passenger vessels every year. All of the 101 new passenger vessels will need to be equipped with first-aid kits each year for an annual cost savings of $4,141.

Total Cost Savings to Vessel Owners and Operators

Table 32 presents the annual undiscounted total cost savings to vessel owners and operators by equipment type, and table 33 presents the total annualized cost savings. We estimate the total undiscounted costs savings to vessel owners and operators at $3.16 million over a 10-year period of analysis, with an annualized total cost savings of about $315,196 discounted at 7 percent ($315,829 with a 3-percent discount rate).

Total Cost Savings to Industry

Table 34 presents the total annualized costs savings to industry over the 10-year period. At a 7-percent discount rate ($336,367 cost savings with a 3-percent discount rate), the cost savings is approximately $335,733.

Federal Government Cost Savings

We estimate that this proposed rule would reduce costs to the Federal Government, since the Coast Guard would no longer review COA applications, application renewals, or inspection reports for the equipment that is subject to this proposed rule. The Coast Guard does not anticipate that this proposed rule would generate any cost savings from vessels inspections, as the proposed rule does not modify any inspection requirements.

Equipment Approval

In addition to generating a cost savings to industry by removing COA application requirements, this proposed rule would also create a cost savings to the Federal Government, as Coast Guard staff will no longer review new COA applications and renewals. The 2018 Commandant Instruction 7310.1T estimates that it takes 24 hours of a GS-14's time to review each new application and 4 hours to review each renewal.⁴⁶ We estimate the cost of reviewing a new application at $2,520 per applicant (24 hours × $105) and the cost for reviewing a renewal application at $420 per renewal (4 hours × $105). In table 36, the cost of reviewing a new application is captured in column (b) and the cost of a renewal application is captured in column (d). In total, we estimate the Federal Government will save $4,312 each year due to this proposed rule removing the requirements of having to review COA applications.

⁴⁶ To see the hourly government rates for personnel, please reference the “Hourly Rates For Personnel ($)” table on page 2 of enclosure (2): https://www.uscg.mil/Portals/0/NPFC/docs/7310/Cl_7310_1T.pdf?ver=2019-01-28-080829-207

Laboratory Inspections

The Coast Guard currently requires manufacturers to submit an annual report with the results of laboratory inspections, allowing the Coast Guard to ensure the production stock of the equipment will be identical to those originally tested and approved by the Coast Guard. This NPRM would remove this reporting requirement for the equipment subject to the proposed rule, removing the need for the Coast Guard to review these reports. We were unable to obtain data about the costs related to laboratory inspections. We request information and comments from the general public and interested stakeholders regarding information on data related to laboratory inspection costs.

We estimate that it takes approximately 2 hours of a GS-14 senior engineer's time to review each report, costing $210 (2 hours × $105). Table 36 presents the total annual cost saving to the Federal Government for no longer having to review laboratory inspection reports. We estimate these costs would be $4,830 per year.

Total Federal Government Savings

Table 37 presents the total annual cost savings to the Federal Government. In total, the Coast Guard estimates this proposed rule to generate a cost savings of approximately $9,142 per year.

Change in Safety

Many of the current requirements for survival craft equipment were developed in the 1950s and 1960s and have not been significantly updated since they were initially published. Upon a thorough review of these requirements, Coast Guard enforcement procedures, current maritime industry practice, and the availability of new international standards, we have determined that the additional scrutiny of the Coast Guard type approval does not increase or decrease the safety for the equipment subject to this proposed rule. For these nine types of survival craft equipment, the current Coast Guard type approval requirements are outdated and overly prescriptive. Therefore, the Coast Guard anticipates that by having equipment meet international standards, as opposed to Coast Guard standards, there would be no decrease in the level of safety in the maritime environment.

Benefits

There are non-monetary benefits to owners and operators of vessels with survival craft in having a larger selection of equipment to choose from allowing for potential operational flexibility.

No Cost Changes

This proposed rule would also implement several changes with no cost impacts. The vast majority of these changes are the result of modifying the current lifeboat equipment requirements for sailing school vessels as stated in § 169.527 to align them with the requirements stated in § 199.175. Table 38 summarizes these changes.

Total Cost Savings

Table 39 presents the total annualized cost savings of this NPRM to both industry and the Federal Government for the 10-year period of analysis. The Coast Guard estimates an annualized cost savings of approximately $345,509 with a 3-percent discount rate and $344,875 with a 7-percent discount rate.

Discussion of Alternatives

When creating this proposed rule, the Coast Guard considered three alternatives. In this section, we examine how the cost of the proposal would change with each alternative.

Alternative 1:

No Action

Using this alternative, the Coast Guard would accept the status quo and not replace the current approval requirements with an international consensus standard. This alternative would not harmonize with international standards, nor reduce the burden to industry. This would incur approximately $345,000 in annual costs, with no estimated benefits.

Alternative 2:

Preferred Alternative— Remove the Need for Coast Guard Approval

Using this alternative, the Coast Guard would implement the proposed changes in table 1 regarding the removal of Coast Guard approval standards. This would lead to an estimated $345,000 in annual cost savings without any estimated reduction in benefits, as this analysis shows.

Alternative 3:

Remove the Need for Coast Guard Approval and Marking Requirements

Under this alternative, the Coast Guard would still implement the changes proposed in the preferred alternative, but would, in addition, remove the requirement that equipment be marked to indicate it meets ISO 25862, ISO 17339, or ISO 18813. This would lead to an additional annual cost savings of approximately $366,862. We estimate this by multiplying 254,765 pieces of equipment by $1.62 (allowing 0.06 hours × $27 clerical rate per hour for the time and cost to mark each piece of equipment). This would lead to a total cost savings of $711,737, which we calculated by adding the additional savings from no markings ($366,862) to the total estimated cost savings of this proposed rule, as shown in alternative 2 ($345,000).

We reject this alternative for the preferred alternative, since eliminating the markings would make it impossible for the Coast Guard to verify if equipment is in compliance with regulations. This alternative could potentially lead to a decrease in safety, if vessel owners and operators purchased ISO non-compliant products that were not sufficiently safe or reliable for usage onboard a survival craft. The potential for the additional burden on the Coast Guard to research and ascertain the compliance status of a piece of survival craft equipment could lead to much more significant costs than the current additional cost of $366,862 from marking equipment.

B. Small Entities

Under the Regulatory Flexibility Act, 5 U.S.C. 601-612, we have considered whether this proposed rule would have a significant economic impact on a substantial number of small entities. The term “small entities” comprises small businesses, not-for-profit organizations that are independently owned and operated and are not dominant in their fields, and governmental jurisdictions with populations of less than 50,000.

The Coast Guard expects that this proposed rule would not have a significant economic impact on small entities. We expect this proposed rule to result in net cost savings to regulated entities.

We estimate there to be 11,139 unique vessel operators and 16 equipment manufacturers affected by this proposed rule. For this analysis, we presumed any company for which we were not able to find Small Business Administration (SBA) size data to be a small entity. An estimated 94 percent of the regulated entities (including the companies without SBA size data) are considered to be small by SBA industry size standards. Using MISLE data, the Coast Guard estimates there to be 11,155 unique companies affected in this proposed rule. We estimate that the average costs to equipment manufacturers would be reduced by $1,445 per year, and the average costs to vessel owners and operators would be reduced by $37.14 per year as a result of removing Coast Guard approval for the equipment subject to the proposed rulemaking. We calculate that 100 percent of the 10,487 (0.94 × 11,155) small vessel operators and 100 percent of small equipment manufacturers impacted by this proposed rule would have a cost savings less than 1 percent of their annual revenue. No small governmental jurisdictions would be impacted by this proposed rule.

Therefore, the Coast Guard certifies under 5 U.S.C. 605(b) that this proposed rule would not have a significant economic impact on a substantial number of small entities. If you think that your business, organization, or governmental jurisdiction qualifies as a small entity and that this proposed rule would have a significant economic impact on it, please submit a comment to the docket at the address listed in the ADDRESSES section of this preamble. In your comment, explain why you think it qualifies and how and to what degree this proposed rule would economically affect it.

C. Assistance for Small Entities

Under section 213(a) of the Small Business Regulatory Enforcement Fairness Act of 1996, Public Law 104-121, we want to assist small entities in understanding this proposed rule so that they can better evaluate its effects on them and participate in the rulemaking. If the proposed rule would affect your small business, organization, or governmental jurisdiction and you have questions concerning its provisions or options for compliance, please call or email the person in the FOR FURTHER INFORMATION CONTACT section of this proposed rule. The Coast Guard will not retaliate against small entities that question or complain about this proposed rule or any policy or action of the Coast Guard.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a revision to an approved collection of information under the Paperwork Reduction Act of 1995, 44 U.S.C. 3501-3520. As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection.

Title: Title 46 CFR Subchapter Q: Lifesaving, Electrical, Engineering and Navigation Equipment, Construction and Materials & Marine Sanitation Devices (33 CFR 159).

OMB Control Number: 1625-0035.

Summary of the Collection of Information: The Coast Guard currently collects information from lifesaving equipment manufacturers under 46 CFR subchapter Q. The current information collection request (ICR), 201811-1625-005 (OMB Control Number 1625-0035), accounts for the following collections of information: New Approval Applications, Renewal Approval Applications, Manufacturer Recordkeeping, Servicing Facility Recordkeeping, Servicing Facility Problem Reports, Instruction Materials, Markings, Production Tests and Laboratory Inspections, and Independent Laboratory Applications and Recognized Laboratory Applications.

Need for Information: The Coast Guard needs this information to ensure that the manufactured safety equipment meets minimum levels of performance safety and helps prevent death, injuries, and property damage associated with commercial maritime operations.

Proposed Use of Information: The Coast Guard uses the technical plans, drawings, specifications, instruction materials, and markings to determine compliance with the technical regulatory requirements for each piece of equipment. Independent laboratory reports ensure that product and material testing complies with the applicable Coast Guard regulations. Production testing reports ensure that the production stock of the equipment is identical to the stock that was originally tested and approved by the Coast Guard. Independent and recognized laboratory applications ensure that the laboratories have the technical capabilities to conduct the required testing and are independent for the organizations whose products they will test.

Description of the Respondents: The respondents are manufacturers of the safety equipment subject to Coast Guard approval, independent and recognized laboratories that conduct testing of the equipment, and liferaft servicing facilities.

Number of Respondents: The Coast Guard estimates there to be 856 respondents, comprised of 480 equipment manufacturers, 233 liferaft servicing facilities, 139 accepted independent laboratories, and 4 recognized independent laboratories. The proposed rule would impact 16 of these respondents. We do not expect it to reduce the total number of respondents because equipment manufacturers may still manufacture other Coast Guard-approved lifesaving equipment that is not subject to the proposed rule.

Frequency of Response: The number of responses per year will vary by requirement. New application materials, instructions, and markings are required with the initial COA application, and renewal application materials, instructions, and markings are required 5 years after the initial application. Production test records and laboratory inspection records are required to be kept annually. The Coast Guard estimates the proposed rule would reduce the number of responses for the following collections of information, presented in table 40, along with the current estimated time to complete each collection.

In table 41, we estimate the reduction in the number of annual responses based on application type.

Burden of Response: The proposed rule would not modify the burden of response for any other existing collections of information.

Estimate of Total Annual Burden: The current ICR estimates the total annual burden to be 114,586 hours. As a result of the proposed rule, we estimate the annual burden would be 86,430 hours, for an annual reduction of 28,156 hours. We adjusted the burden to account for errors in Appendix A of the current ICR, which added 253 hours to the estimated annual burden. Together, these changes account for a total annual reduction in burden of 27,903 hours. These changes are summarized in table 42.

As required by 44 U.S.C. 3507(d), we will submit a copy of this proposed rule to OMB for its review of the collection of information.

We ask for public comment on the proposed collection of information to help us determine, among other things—

• How useful the information is;

• Whether the information can help us perform our functions better;

• How we can improve the quality, usefulness, and clarity of the information;

• Whether the information is readily available elsewhere;

• How accurate our estimate is of the burden of collection;

• How valid our methods are for determining the burden of collection; and

• How we can minimize the burden of collection.

If you submit comments on the collection of information, submit them by the date listed in the DATES section of this preamble to both the OMB and to the docket where indicated under ADDRESSES.

You need not respond to a collection of information unless it displays a currently valid control number from OMB. Before the Coast Guard could enforce the collection of information requirements in this proposed rule, OMB would need to approve the Coast Guard's request to collect this information.

E. Federalism

A rule has implications for federalism under Executive Order 13132 (Federalism) if it has a substantial direct effect on States, on the relationship between the National Government and the States, or on the distribution of power and responsibilities among the various levels of government. We have analyzed this proposed rule under Executive Order 13132 and have determined that it is consistent with the fundamental federalism principles and preemption requirements described in Executive Order 13132. Our analysis follows.

It is well settled that States may not regulate in categories reserved by Congress for regulation by the Coast Guard. It is also well settled that all of the categories regulated under 46 U.S.C. 2103, 3103, 3306, 3703, 4102, 4502, 7101, and 8101 (design, construction, alteration, repair, maintenance, operation, equipping, personnel qualification, and manning of vessels), as well as any other category in which Congress intended the Coast Guard to be the sole source of a vessel's obligations, are within the field foreclosed from regulation by the States. See the Supreme Court's decision in United States v. Locke and Intertanko v. Locke, 529 U.S. 89, 120 S.Ct. 1135 (2000). This proposed rule involves the design, maintenance, and equipping of vessels, specifically, certain survival craft equipment that is required to be carried in survival craft and rescue boats on certain, specified U.S.-flagged vessels. Therefore, because the States may not regulate within these categories, this rule is consistent with the fundamental federalism principles and preemption requirements described in Executive Order 13132.

While it is well settled that States may not regulate in categories in which Congress intended the Coast Guard to be the sole source of a vessel's obligations, the Coast Guard recognizes the key role that State and local governments may have in making regulatory determinations. Additionally, for rules with federalism implications and preemptive effect, Executive Order 13132 specifically directs agencies to consult with State and local governments during the rulemaking process. If you believe this proposed rule would have implications for federalism under Executive Order 13132, please call or email the person listed in the FOR FURTHER INFORMATION CONTACT section of this preamble.

F. Unfunded Mandates

The Unfunded Mandates Reform Act of 1995, 2 U.S.C. 1531-1538, requires Federal agencies to assess the effects of their discretionary regulatory actions. In particular, the Act addresses actions that may result in the expenditure by a State, local, or tribal government, in the aggregate, or by the private sector of $100 million (adjusted for inflation) or more in any one year. Although this proposed rule would not result in such an expenditure, we do discuss the effects of this proposed rule elsewhere in this preamble.

G. Taking of Private Property

This proposed rule would not cause a taking of private property or otherwise have taking implications under Executive Order 12630 (Governmental Actions and Interference with Constitutionally Protected Property Rights).

H. Civil Justice Reform

This proposed rule meets applicable standards in sections 3(a) and 3(b)(2) of Executive Order 12988 (Civil Justice Reform) to minimize litigation, eliminate ambiguity, and reduce burden.

I. Protection of Children

We have analyzed this proposed rule under Executive Order 13045 (Protection of Children from Environmental Health Risks and Safety Risks). This proposed rule is not an economically significant rule and would not create an environmental risk to health or risk to safety that might disproportionately affect children.

J. Indian Tribal Governments

This proposed rule does not have tribal implications under Executive Order 13175 (Consultation and Coordination with Indian Tribal Governments), because it would not have a substantial direct effect on one or more Indian tribes, on the relationship between the Federal Government and Indian tribes, or on the distribution of power and responsibilities between the Federal Government and Indian tribes.

K. Energy Effects

We have analyzed this proposed rule under Executive Order 13211 (Actions Concerning Regulations That Significantly Affect Energy Supply, Distribution, or Use). We have determined that it is not a “significant energy action” under that order because it is not a “significant regulatory action” under Executive Order 12866 and is not likely to have a significant adverse effect on the supply, distribution, or use of energy.

L. Technical Standards and Incorporation by Reference

The National Technology Transfer and Advancement Act, codified as a note to 15 U.S.C. 272, directs agencies to use voluntary consensus standards in their regulatory activities unless the agency provides Congress, through OMB, with an explanation of why using these standards would be inconsistent with applicable law or otherwise impractical. Voluntary consensus standards are technical standards (e.g., specifications of materials, performance, design, or operation; test methods; sampling procedures; and related management systems practices) that are developed or adopted by voluntary consensus standards bodies.

This proposed rule uses technical standards developed by voluntary consensus standards bodies to meet the stringent equipment requirements for survival craft and rescue boats onboard U.S.-flagged vessels. These standards provide internationally accepted and recognized parameters which the equipment must meet in order to ensure its safety, proper usage, and preservation on the seas. The standards being incorporated were developed by either the American Society for Testing and Materials (ASTM) or the ISO, which are voluntary consensus standard-setting organizations. The sections that reference these standards and the locations where these standards are available are listed in 46 CFR parts 160 and 199.

Two ASTM standards would be updated and incorporated by reference in this rulemaking: (1) ASTM F 1003-02 “Standard Specification for Searchlights on Motor Lifeboats” (2007); and (2) ASTM F 1014-02 “Standard Specification for Flashlights on Vessels” (2002). These ASTM standards specify requirements for construction, including materials, dimensions, performance and/or capability. The newer versions are not materially different from the previous versions. We do not propose to update the third ASTM standard already incorporated in § 199.05, ASTM 93-97, “Standard Test Methods for Flash Point by Pensky-Martens Closed Cup Tester.”

The following three ISO standards listed here would be incorporated by reference in this rulemaking:

1. ISO 18813, Ships and marine technology—Survival equipment for survival craft and rescue boats.

This standard specifies design, performance, and use of various items of survival equipment carried in survival craft and rescue boats complying with the International Convention for the Safety of Life at Sea (SOLAS), 1974 (as amended), and the International Maritime Organization Life-Saving Appliance Code (LSA Code). It also includes guidelines for maintenance and periodic inspections for many items.

2. ISO 25862, Ships and marine technology—Marine magnetic compasses, binnacles and azimuth reading devices.

This standard gives requirements regarding construction and performance of marine magnetic compasses for navigation and steering purposes, binnacles and azimuth reading devices.

3. ISO 17339, Ships and marine technology—Life saving and fire protection—Sea anchors for survival craft and rescue boats.

This standard specifies requirements for the design, performance and prototype testing of sea anchors for survival craft (liferafts and lifeboats) and rescue boats in accordance with the LSA Code.

With this rulemaking, we also propose to update our incorporation by reference of Resolution MSC.4(48) International Code for the Construction and Equipment of Ships carrying Dangerous Chemicals in Bulk (IBC Code), 1994, and the International Code for the Construction and Equipment of Ships carrying Liquefied Gases in Bulk, (IGC Code), 1993, to reflect the updated editions. No changes to the specific referenced material have been made between those older editions and the 2016 editions. The IBC Code provides an international standard for the safe transport by sea of dangerous and noxious liquid chemicals in bulk. The purpose of the IGC Code is to provide an international standard for the safe transport by sea in bulk of liquefied gases and certain other substances.

Consistent with 1 CFR part 51 incorporation by reference provisions, this material is reasonably available. Interested persons have access to it through their normal course of business, may purchase it from the organization identified in 46 CFR 160.046-3, 169.115 or 199.05 or online (via the internet), or may view a copy by means we have identified in those sections. Members and representatives of the regulated industries are also participants in the standards development organizations.

If you disagree with our analysis of these standards or are aware of standards that might apply but are not listed, please send a comment explaining your disagreement or identifying additional standards to the docket using one of the methods listed in the ADDRESSES section of this preamble.

M. Environment

We have analyzed this proposed rule under Department of Homeland Security Management Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. A preliminary Record of Environmental Consideration supporting this determination is available in the docket. For instructions on locating the docket, see the ADDRESSES section of this preamble. This proposed rule would be categorically excluded under paragraphs L52, L57, and L58 of Table 1 in Appendix A of DHS Directive 023-01-001-01, Rev. 1. CATEX L52 pertains to regulations concerning vessel and operation safety standards. Paragraph L57 pertains to regulations concerning manning, documentation, admeasurements, inspection, and equipping of vessels. Paragraph L58 pertains to regulations concerning equipment approval and carriage requirements.

This proposed rule is intended to remove the Coast Guard type approval requirement for some survival craft equipment, and replace it with the requirement that the manufacturer self-certify that their equipment complies with a consensus standard. We seek any comments or information that may lead to the discovery of a significant environmental impact from this proposed rule.

List of Subjects

46 CFR Part 121

Communications equipment, Marine safety, Navigation (water), Passenger vessels.

46 CFR Part 160

Incorporation by reference, Lifesaving equipment, Marine safety, Reporting and recordkeeping requirements.

46 CFR Part 169

Fire prevention, Incorporation by reference, Marine safety, Reporting and recordkeeping requirements, Schools, Vessels.

46 CFR Part 184

Communications equipment, Marine safety, Navigation (water), Passenger vessels, Reporting and recordkeeping requirements.

46 CFR Part 199

Cargo vessels, Incorporation by reference, Lifesaving systems for certain inspected vessels, Marine safety, Oil and gas exploration, Passenger vessels, Reporting and recordkeeping requirements.

For the reasons discussed in the preamble, the Coast Guard is proposing to amend 46 CFR parts 121, 160, 169, 184, and 199 as follows:

PART 121—VESSEL CONTROL AND MISCELLANEOUS SYSTEMS AND EQUIPMENT

1. The authority citation for part 121 continues to read as follows:

Authority: 46 U.S.C. 2103, 3306; E.O. 12234, 45 FR 58801, 3 CFR, 1980 Comp., p. 277; Department of Homeland Security Delegation No. 0170.1.

2. Revise § 121.710 to read as follows:

§ 121.710 First-aid kits.

A vessel must carry either a first-aid kit that meets the requirements in 46 CFR 199.175(b)(10) or a kit with equivalent contents and instructions. For equivalent kits, the contents must be stowed in a suitable, watertight container that is marked “First-Aid Kit”. A first-aid kit must be easily visible and readily available to the crew.

PART 160—LIFESAVING EQUIPMENT

3. The authority citation for part 160 is revised to read as follows:

Authority: 46 U.S.C. 2103, 3103, 3306, 3703, 4102, 4302, and 4502 and Department of Homeland Security Delegation No. 0170.1, para. II, (92)(b).

4. Revise § 160.010-3(a)(12)(ii) and (e)(7)(ii) to read as follows:

§ 160.010-3 Inflatable buoyant apparatus.

(a) * * *

(12) * * *

(ii) Knives. One knife, of a type designed to minimize the chance of damage to the inflatable buoyant apparatus and secured with a lanyard ready for use near the painter attachment. Any knife may be replaced with a jackknife meeting the requirements in 46 CFR 199.175(b)(16). In addition, an inflatable buoyant apparatus which is permitted to accommodate 13 persons or more must be provided with a second knife that is of the non-folding type;

* * * * *

(e) * * *

(7) * * *

(ii) First-aid kit. A first-aid kit as described in 46 CFR 199.175(b)(10);

* * * * *

Subpart 160.013—[Removed and Reserved]

5. Remove and reserve subpart 160.013.

Subpart 160.026—[Removed and Reserved]

6. Remove and reserve subpart 160.026.

Subpart 160.041—[Removed and Reserved]

7. Remove and reserve subpart 160.041.

Subpart 160.043—[Removed and Reserved]

8. Remove and reserve subpart 160.043.

Subpart 160.044—[Removed and Reserved]

9. Remove and reserve subpart 160.044.

10. Add subpart 160.046 to read as follows:

Subpart 160.046—Emergency Provisions

Sec.
160.046-1 Scope.
160.046-3 Incorporation by reference.
160.046-5 General requirements for emergency provisions.
160.046-7 Independent laboratory.
160.046-9 Manufacturer certification and labeling.
160.046-11 Manufacturer notification.

§ 160.046 -1 Scope.

Emergency provisions approved to be carried in lifeboats and liferafts.

§ 160.046-3 Incorporation by reference.

(a) Certain material is incorporated by reference into this part with the approval of the Director of the Federal Register under 5 U.S.C. 552(a) and 1 CFR part 51. All approved material is available for inspection at the Coast Guard Headquarters. Contact Commandant (CG-ENG-4), U.S. Coast Guard Stop 7501, 2703 Martin Luther King Jr. Avenue SE, Washington, DC 20593-7501, telephone 202-372-1426, email typeapproval@uscg.mil. It is also available for inspection at the National Archives and Records Administration (NARA). For information on the availability of this material at NARA, email fedreg.legal@nara.gov, or go to: www.archives.gov/federal-register/cfr/ibr-locations.html. All approved material is available from the sources listed in this section.

(b) International Standard Organization (ISO), BIBC II, Chemin de Blandonnet 8, CP 401, 1214 Vernier, Geneva, Switzerland, http://www.iso.org, telephone +41 22 749 01 11, email central@iso.org.

(1) ISO 18813:2006 Ships and marine technology—Survival equipment for survival craft and rescue boats, 2006, IBR approved for §§ 160.046-5, 160.046-7, and 160.046-11.

(2) [Reserved]

§ 160.046-5 General requirements for emergency provisions.

Emergency provisions must meet the requirements found in ISO 18813:2006 paragraph 4.31 (incorporated by reference, see § 160.046-3).

§ 160.046-7 Independent laboratory.

Unless the Commandant directs otherwise, an independent laboratory accepted by the Coast Guard under 46 CFR 159.010 must perform or witness, as appropriate, inspections, tests, and oversight required by ISO 18813:2006 paragraph 4.31 (incorporated by reference, see § 160.046-3). Approval and production tests of emergency provisions must be carried out in accordance with the procedures for independent laboratory inspections in 46 CFR 159.007 and in this section unless the Commandant authorizes alternative tests and inspections. The Commandant may prescribe additional production tests and inspections necessary to maintain quality control and to monitor compliance with the requirements of this subpart.

§ 160.046-9 Manufacturer certification and labeling.

(a) Each emergency provision must be certified by the manufacturer as complying with the requirements of this subpart.

(b) The container should be clearly and permanently marked with:

(1) The name and address of the approval holder;

(2) The U.S. Coast Guard Approval number;

(3) The total food energy value of provisions in the container in Calories and kiloJoules;

(4) The lot number;

(5) The month and year the provision was packed; and

(6) The month and year of expiration (5 years after the date of packing).

(c) The emergency provision must include waterproof instructions for use, assuming consumption of 3350 kiloJoules per person per day.

§ 160.046-11 Manufacturer notification.

Each manufacturer of emergency provisions approved in accordance with the specifications of this subpart must send a test report required by ISO 18813:2006 paragraph 4.31.2 (incorporated by reference, see § 160.046-3) to the Commandant (CG-ENG-4), U.S. Coast Guard Stop 7509, 2703 Martin Luther King Jr. Avenue SE, Washington, DC 20593-7509 or email typeapproval@uscg.mil:

(a) With the application for approval;

(b) Every year as long as the manufacturer continues to produce provisions; and

(c) Each time the contents of the emergency provisions change.

11. Revise § 160.051-11(b) to read as follows:

§ 160.051-11 Equipment required for Coastal Service inflatable liferafts.

* * * * *

(b) Knife. One knife, of a type designed to minimize the chance of damage to the inflatable liferaft and secured with a lanyard. In addition, an inflatable liferaft which is permitted to accommodate 13 persons or more must be provided with a second knife that is of the non-folding type. Any knife may be replaced with a jackknife meeting the requirements in 46 CFR 199.175(b)(16).

* * * * *

Subpart 160.054—[Removed and Reserved]

12. Remove and reserve subpart 160.054.

Subpart 160.061—[Removed and Reserved]

13. Remove and reserve subpart 160.061.

14. Revise § 160.135-7(b)(23) to read as follows:

§ 160.135-7 Design, construction, and performance of lifeboats.

* * * * *

(b) * * *

(23) Bilge pump. Each lifeboat that is not automatically self-bailing must be fitted with a manual bilge pump that meets the requirements in 46 CFR 199.175(b)(2). Each such lifeboat with a capacity of 100 persons or more must carry an additional manual bilge pump or an engine-powered bilge pump.

* * * * *

15. Revise § 160.151-21(b), (h), (o), and (q) through (s) to read as follows:

§ 160.151-21 Equipment required for SOLAS A and SOLAS B inflatable liferafts.

* * * * *

(b) Jackknife (IMO LSA Code, as amended by Resolution MSC.293(87), Chapter IV/4.1.5.1.2). Each folding knife must be a jackknife meeting the requirements in 46 CFR 199.175(b)(16).

* * * * *

(h) First-aid kit (IMO LSA Code, as amended by Resolution MSC.293(87), Chapter IV/4.1.5.1.8). Each first-aid kit must meet the requirements in 46 CFR 199.175(b)(10).

* * * * *

(o) Signalling mirror (IMO LSA Code, as amended by Resolution MSC.293(87), Chapter IV/4.1.5.1.15). Each signalling mirror must meet the requirements in 46 CFR 199.175(b)(19).

* * * * *

(q) Fishing tackle (IMO LSA Code, as amended by Resolution MSC.293(87), Chapter IV/4.1.5.1.17). The fishing tackle must meet the requirements in 46 CFR 199.175(b)(11).

(r) Food rations (IMO LSA Code, as amended by Resolution MSC.293(87), Chapter IV/4.1.5.1.18). The food rations must meet the requirements in 46 CFR 199.175(b)(22).

(s) Drinking water (IMO LSA Code, as amended by Resolution MSC.293(87), Chapter IV/4.1.5.1.19). Emergency drinking water must meet the requirements in 46 CFR 199.175(b)(40). The desalting apparatus or reverse osmosis desalinator must be approved by the Commandant under subpart 160.058 of this part.

* * * * *

16. Revise § 160.156-7(b)(22) to read as follows:

§ 160.156-7 Design, construction and performance of rescue boats and fast rescue boats.

* * * * *

(b) * * *

(22) Manual bilge pump. Each rescue boat that is not automatically self-bailing must be fitted with a manual bilge pump that meets the requirements in 46 CFR 199.175(b)(2), or an engine-powered bilge pump.

* * * * *

PART 169—SAILING SCHOOL VESSELS

17. The authority citation for part 169 is revised to read as follows:

Authority: 33 U.S.C. 1321(j); 46 U.S.C. 3306, 6101; E.O. 11735, 38 FR 21243, 3 CFR, 1971-1975 Comp., p. 793; Department of Homeland Security Delegation No. 0170.1; § 169.117 also issued under the authority of 44 U.S.C. 3507.

18. Revise § 169.527 to read as follows:

§ 169.527 Required equipment for lifeboats.

(a) All lifeboats must be equipped in accordance with Table 1 to § 199.175 of this chapter except as provided in paragraphs (b) and (c) of this section.

(b) The following equipment must be carried in addition to the equipment required under § 199.175 of this chapter:

(1) Cover;

(2) Ditty bag; and

(3) Mast and sail.

(c) If operating on protected waters, lifeboat equipment need only to consist of the following:

(1) Boathook—(1);

(2) Bucket—(1);

(3) Fire extinguisher—(2) U.S Coast Guard approved Type B-C (motor propelled lifeboats only);

(4) Hatch—(1);

(5) Lifeline—(1);

(6) Oar unit—(1);

(7) Painter—(1);

(8) Plug—(1);

(9) Oarlock unit—(1); and

(10) Toolkit (motor propelled lifeboats only).

19. Revise § 169.529 to read as follows:

§ 169.529 Description of lifeboat equipment.

(a) All lifeboat equipment must meet the requirements under § 199.175 of this chapter, except as provided in paragraph (b) of this section.

(b) The following equipment, carried in addition to the equipment required under § 199.175 of this chapter, must meet the following requirements:

(1) Cover, protecting. The cover must be of highly visible color and capable of protecting the occupants against exposure. A cover is not required for fully enclosed lifeboats.

(2) Ditty bag. The ditty bag must consist of a canvas bag or equivalent and must contain a sailmaker's palm, needles, sail twine, marline, and marlin spike, except that motor-propelled lifeboats need not carry a ditty bag.

(3) Mast and sail. A unit, consisting of a standing lug sail together with the necessary spars and rigging, must be provided in accordance with Table 1 to this section, except that motor-propelled lifeboats need not carry a mast or sails. The sails must be of good quality canvas, or other material acceptable to the Commandant, colored Indian Orange (Cable No. 70072, Standard Color Card of America). Rigging must consist of galvanized wire rope not less than three-sixteenths inch in diameter. The mast and sail must be protected by a suitable cover.

PART 184—VESSEL CONTROL AND MISCELLANEOUS SYSTEMS AND EQUIPMENT

20. The authority citation for part 184 continues to read as follows:

Authority: 46 U.S.C. 2103, 3306; E.O. 12234, 45 FR 58801, 3 CFR, 1980 Comp., p. 277; Department of Homeland Security Delegation No. 0170.1.

21. Revise § 184.710 to read as follows:

§ 184.710 First-aid kits.

A vessel must carry either a first-aid kit that meets the requirements in 46 CFR 199.175(b)(10) or a kit with equivalent contents and instructions. For equivalent kits, the contents must be stowed in a suitable, watertight container that is marked “First-Aid Kit”. A first-aid kit must be easily visible and readily available to the crew.

PART 199—LIFESAVING SYSTEMS FOR CERTAIN INSPECTED VESSELS

22. The authority citation for part 199 is revised to read as follows:

Authority: 46 U.S.C. 2103, 3103, 3306, 3703; and Department of Homeland Security Delegation No. 0170.1, para. II, (92)(b).

23. Revise § 199.05 to read as follows:

§ 199.05 Incorporation by reference.

(a) Certain material is incorporated by reference in this part with the approval of the Director of the Federal Register under 5 U.S.C. 552(a) and 1 CFR part 51. All approved material is available for inspection at the Coast Guard Headquarters. Contact Commandant (CG-ENG-4), U.S. Coast Guard Stop 7501, 2703 Martin Luther King Jr. Avenue SE, Washington, DC 20593-7501, telephone 202-372-1426 or email typeapproval@uscg.mil. It is also available for inspection at the National Archives and Records Administration (NARA). For information on the availability of this material at NARA, email fedreg.legal@nara.gov, or go to: www.archives.gov/federal-register/cfr/ibr-locations.html. All approved material is available from the sources indicated in paragraph (b) of this section.

(b) The material approved for incorporation by reference (IBR) in this part and the sections affected are as follows:

(1) American Society for Testing and Materials (ASTM), 100 Barr Harbor Drive, West Conshohocken, PA 19428-2959, 610-832-9500, http://www.astm.org, telephone +1 610 832 9500, email service@astm.org.

(i) ASTM D 93-97, Standard Test Methods for Flash Point by Pensky-Martens Closed Cup Tester, 1997, IBR approved for §§ 199.261 and 199.290.

(ii) ASTM F 1003-02, Standard Specification for Searchlights on Motor Lifeboats, 2007, IBR approved for § 199.175.

(iii) ASTM F 1014-02, Standard Specification for Flashlights on Vessels, 2002, IBR approved for § 199.175.

(2) International Maritime Organization (IMO), Publications Section, 4 Albert Embankment, London, SE1 7SR, United Kingdom, http://www.imo.org, telephone +44 (0)20 7735 7611, email info@imo.org.

(i) MSC Circular 699, Revised Guidelines for Passenger Safety Instructions, 17 July 1995, IBR approved for § 199.217.

(ii) Resolution A.520(13), Code of Practice for the Evaluation, Testing and Acceptance of Prototype Novel Life-saving Appliances and Arrangements, 17 November 1983, IBR approved for § 199.40.

(iii) Resolution A.657(16), Instructions for Action in Survival Craft, 19 November 1989, IBR approved for § 199.175.

(iv) Resolution A.658(16), Use and Fitting of Retro-reflective Materials on Life-saving Appliances, 20 November 1989, IBR approved for §§ 199.70 and 199.176.

(v) Resolution A.760(18), Symbols Related to Life-saving Appliances and Arrangements, 17 November 1993, IBR approved for §§ 199.70 and 199.90.

(vi) International Code for the Construction and Equipment of Ships carrying Dangerous Chemicals in Bulk (IBC Code), 2016, Chapter 17, IBR approved for § 199.30 and Chapter 2 approved for § 199.280.

(vii) International Code for the Construction and Equipment of Ships carrying Liquefied Gases in Bulk, (IGC Code), 2016, Chapter 19, IBR approved for § 199.30, and Chapter 2, IBR approved for § 199.280.

(3) International Standard Organization (ISO), BIBC II, Chemin de Blandonnet 8, CP 401, 1214 Vernier, Geneva, Switzerland, http://www.iso.org/, telephone +41 22 749 01 11, email central@iso.org.

(i) ISO 18813:2006 Ships and marine technology—Survival equipment for survival craft and rescue boats, 2006, IBR approved for § 199.175.

(ii) ISO 25862:2009 Ships and marine technology—Marine magnetic compasses, binnacles and azimuth reading devices, 2009, IBR approved for § 199.175.

(iii) ISO 17339:2018 Ships and marine technology—Life saving and fire protection— Sea anchors for survival craft and rescue boats, 2018, IBR approved for § 199.175.

24. Amend § 199.175 as follows:

a. Revise paragraph (a)(4);

b. Redesignate paragraph (a)(5) as paragraph (a)(6);

c. Add a new paragraph (a)(5);

d. Revise paragraphs (b) introductory text, (b)(2), (5), (6), (9), (10), (11), (13), and (16) and (b)(17)(i) and (ii);

e. Adding paragraph (b)(17)(iii);

f. Revise paragraphs (b)(19), (b)(27)(i), and (b)(40);

g. Add paragraph (c); and

h. Revise the heading for the table to § 199.175 and entries 5 and 17 of the table and add note 11 to the table.

The revisions and additions read as follows:

§ 199.175 Survival craft and rescue boat equipment.

(a) * * *

(4) Must be packed in a suitable and compact form;

(5) Must be marked with either the Coast Guard approval number or the standard that the product meets, as applicable; and

* * * * *

(b) Each lifeboat, rigid liferaft, and rescue boat, unless otherwise stated in this paragraph (b), must carry the equipment listed in this paragraph (b) and specified for it in Table 1 to this section under the vessel's category of service. A lifeboat that is also a rescue boat must carry the equipment in the table column marked for a lifeboat.

* * * * *

(2) Bilge pump. The bilge pump must meet the requirements in ISO 18813:2006 paragraph 4.3 (incorporated by reference, see § 199.05) and must be installed in a ready-to-use condition.

* * * * *

(5) Can opener. A can opener must meet the requirements in ISO 18813:2006 paragraph 4.43 (incorporated by reference, see § 199.05). A can opener may be in a jackknife meeting the requirements in paragraph (b)(16) of this section.

(6) Compass. The compass and its mounting arrangement must meet the requirements in ISO 18813:2006 paragraph 4.6 (incorporated by reference, see § 199.05).

(i) In a totally enclosed lifeboat, the compass must be permanently fitted at the steering position; in any other boat it must be provided with a binnacle, if necessary, to protect it from the weather, and with suitable mounting arrangements.

(ii) The compass must be tested in accordance with the provisions in ISO 25862:2009 Annex H (incorporated by reference, see § 199.05) by an independent laboratory accepted by the Coast Guard in accordance with part 159, subpart 159.010, of this chapter.

* * * * *

(9) Fire extinguisher. The fire extinguisher must be approved under part 162, subpart 162.028, of this chapter. The fire extinguisher must have a rating of a 40-B:C. Two 10-B:C extinguishers may be carried in place of a 40-B:C extinguisher. Extinguishers with larger numerical ratings or multiple letter designations may be used instead of the requirements in the preceding sentences.

(10) First-aid kit. Each first-aid kit must meet the requirements in ISO 18813:2006 paragraph 4.12 (incorporated by reference, see § 199.05).

(i) A first-aid kit may be considered acceptable if it meets all of the requirements of ISO 18813:2006 paragraph 4.12, except that it does not contain the burn preparation. It must be clearly marked on the first-aid kit that it does not include the burn preparations.

(ii) Medicinal products must be approved by the U.S. Food and Drug Administration.

(11) Fishing kit. The fishing kit must meet the requirements in ISO 18813:2006 paragraph 4.13 (incorporated by reference, see § 199.05).

* * * * *

(13) Hatchet. The hatchet must be suitable for cutting a rope towline or painter in an emergency and must not require assembly or unfolding.

(i) The hatchet must be at least 14 inches in length and have a cutting edge of approximately 3-¼ inches in length, with a hardened steel or equivalent alloy head.

(ii) The hatchet must be provided a lanyard at least 3 feet in length.

(iii) The hatchet must be stowed in brackets near the release mechanism and, if more than one hatchet is carried, the hatchets must be stowed at opposite ends of the boat.

* * * * *

(16) Jackknife. The jackknife must consist of a one-bladed knife fitted with a can opener and attached to the boat by its lanyard. The jackknife must meet the requirements in ISO 18813:2006 paragraph 4.19 (incorporated by reference, see § 199.05).

(17) * * *

(i) The knife for a rigid liferaft must be secured to the raft by a lanyard and stowed in a pocket on the exterior of the canopy near the point where the painter is attached to the liferaft. If an approved jackknife is substituted for the second knife required on a liferaft equipped for 13 or more persons, the jackknife must also be secured to the liferaft by a lanyard.

(ii) The knife in an inflatable or rigid-inflatable rescue boat must be of a type designed to minimize the possibility of damage to the fabric portions of the hull.

(iii) Any knife may be replaced with a jackknife meeting the requirements in paragraph (b)(16) of this section.

* * * * *

(19) Mirror. The signalling mirror must meet the requirements in ISO 18813:2006 paragraph 4.23 (incorporated by reference, see § 199.05).

* * * * *

(27) * * *

(i) The sea anchor for a lifeboat, rescue boat, and rigid liferaft must meet the requirements in ISO 17339:2018 (incorporated by reference, see § 199.05).

* * * * *

(40) Water. The water must meet the requirements in ISO 18813:2006 paragraph 4.46 (incorporated by reference, see § 199.05).

(i) The water must meet the U.S. Public Health Service “Drinking Water Standards” in 40 CFR part 141 to suitably protect the container against corrosion. After treatment and packing, the water must be free from organic matter, sediment and odor. It must have a pH between 7.0 and 9.0 as determined by means of a standard pH meter using glass electrodes. Water quality must be verified by the local municipality or independent laboratory accepted by the Coast Guard in accordance with part 159, subpart 159.010, of this chapter.

(ii) Containers of emergency drinking water must be tested in accordance with the provisions in ISO 18813:2006 by an independent laboratory accepted by the Coast Guard in accordance with part 159, subpart 159.010, of this chapter.

(iii) Up to one-third of the emergency drinking water may be replaced by a desalting apparatus approved under part 160, subpart 160.058, of this chapter that is capable of producing the substituted amount of water in 2 days.

(iv) Up to two-thirds of the emergency drinking water may be replaced by a manually powered, reverse osmosis desalinator approved under part 160, subpart 160.058, of this chapter that is capable of producing the substituted amount of water in 2 days.

* * * * *

(c) Any Coast Guard approved equipment on board before [EFFECTIVE DATE OF FINAL RULE] may remain on board as long as it remains in good and serviceable condition.

Dated: September 18, 2020.
R.V. Timme,
Rear Admiral, U.S. Coast Guard, Assistant Commandant for Prevention Policy.

[FR Doc. 2020-21032 Filed 10-2-20; 8:45 am]

BILLING CODE 9110-04-P